OFFICE OF PERSONNEL MANAGEMENT

Excepted Service; Consolidated Listing of Schedules A, B, and C Exceptions

AGENCY: Office of Personnel Management.

ACTION: Notice.

SUMMARY: This provides the consolidated notice of all agency specific excepted authorities, approved by the Office of Personnel Management (OPM), under Schedule A, B, and C, as of June 30, 2019, as required by Civil Service Rule VI, Exceptions from the Competitive Service.

FOR FURTHER INFORMATION CONTACT: Julia Alford, Senior Executive Resources Services, Senior Executive Service and Performance Management, Employee Services, 202-606-2246.

SUPPLEMENTARY INFORMATION: Civil Service Rule VI (5 CFR 6.1) requires the U.S. Office of Personnel Management (OPM) to publish notice of exceptions granted under Schedule A, B, and C. Under 5 CFR 213.103(a) it is required that all Schedule A, B, and C appointing authorities available for use by all agencies to be published as regulations in the Federal Register (FR) and the Code of Federal Regulations (CFR). Excepted appointing authorities established solely for use by one specific agency do not meet the standard of general applicability prescribed by the Federal Register Act for regulations published in either the FR or the CFR. Therefore, 5 CFR 213.103(b) requires monthly publication, in the Notices section of the Federal Register, of any Schedule A, B, and C appointing authorities applicable to a single agency. Under 5 CFR 213.103(c) it is required that a consolidated listing of all Schedule A, B, and C authorities, current as of June 30 of each year, be published annually in the Notices section of the Federal Register at www.federalregister.gov/agencies/personnel-management-office. That notice follows. Governmentwide authorities codified in the CFR are not printed in this notice.

When making appointments under an agency-specific authority, agencies should first list the appropriate Schedule A, B, or C, followed by the applicable number, for example: Schedule A, 213.3104(x)(x). Agencies are reminded that all excepted authorities are subject to the provisions of 5 CFR part 302 unless specifically exempted by OPM at the time of approval. OPM maintains continuing information on the status of all Schedule A, B, and C appointing authorities. Interested parties needing information about specific authorities during the year may obtain information by writing to the Senior Executive Resources Services, Office of Personnel Management, 1900 E Street NW, Room 7412, Washington, DC 20415, or by calling (202) 606-2246.

The following exceptions are current as of June 30, 2019.

Schedule A

03. Executive Office of the President (Sch. A, 213.3103)

(a) Office of Administration—

(1) Not to exceed 75 positions to provide administrative services and support to the White House Office.

(b) Office of Management and Budget—

(1) Not to exceed 20 positions at grades GS-5/15.

(2) Not to Exceed 34 positions that require unique technical skills needed for the re-designing and re-building of digital interfaces between citizens, businesses, and government as a part of Smarter Information Technology Delivery Initiative. This authority may be used to make permanent, time-limited and temporary appointments to Digital Services Expert positions (GS-301) directly related to the implementation of the Smarter Information Technology Delivery Initiative at the GS-14 to 15 level. No new appointments may be made under this authority after September 30, 2017.

(c) Council on Environmental Quality—

(1) Professional and technical positions in grades GS-9 through 15 on the staff of the Council.

(d)-(f) (Reserved)

(g) National Security Council—

(1) All positions on the staff of the Council.

(h) Office of Science and Technology Policy—

(1) Thirty positions of Senior Policy Analyst, GS-15; Policy Analyst, GS-11/14; and Policy Research Assistant, GS-9, for employment of anyone not to exceed 5 years on projects of a high priority nature.

(i) Office of National Drug Control Policy—

(1) Not to exceed 18 positions, GS-15 and below, of senior policy analysts and other personnel with expertise in drug-related issues and/or technical knowledge to aid in anti-drug abuse efforts.

04. Department of State (Sch. A, 213.3104)

(a) Office of the Secretary—

(1) All positions, GS-15 and below, on the staff of the Family Liaison Office, Director General of the Foreign Service and the Director of Personnel, Office of the Under Secretary for Management.

(2) (Reserved)

(b)-(f) (Reserved)

(g) Bureau of Population, Refugees, and Migration—

(1) Not to exceed 10 positions at grades GS-5 through 11 on the staff of the Bureau.

(h) Bureau of Administration—

(1) (Reserved)

(2) One position of the Director, Art in Embassies Program, GM-1001-15.

(3) (Reserved)

05. Department of the Treasury (Sch. A, 213.3105)

(a) Office of the Secretary—

(1) Not to exceed 20 positions at the equivalent of GS-13 through GS-15 or Senior Level (SL) to supplement permanent staff in the study of complex problems relating to international financial, economic, trade, and energy policies and programs of the Government, when filled by individuals with special qualifications for the particular study being undertaken. Employment under this authority may not exceed 4 years.

(2) Covering no more than 100 positions supplementing permanent staff studying domestic economic and financial policy, with employment not to exceed 4 years.

(3) Not to exceed 100 positions in the Office of the Under Secretary for Terrorism and Financial Intelligence.

(4) Up to 35 temporary or time-limited positions at the GS-9 through 15 grade levels to support the organization, design, and stand-up activities for the Consumer Financial Protection Bureau (CFPB), as mandated by Public Law 111-203. This authority may be used for the following series: GS-201, GS-501, GS-560, GS-1035, GS-1102, GS-1150, GS-1720, GS-1801, and GS-2210. No new appointments may be made under this authority after July 21, 2011, the designated transfer date of the CFPB.

(b)-(d) (Reserved)

(e) Internal Revenue Service—

(1) Twenty positions of investigator for special assignments.

(f) (Reserved)

(g) (Reserved, moved to DOJ)

(h) Office of Financial Stability—

(1) Positions needed to perform investment, risk, financial, compliance, and asset management requiring unique qualifications currently not established by OPM. Positions will be in the Office of Financial Stability and the General Schedule (GS) grade levels 12-15 or Senior Level (SL), for initial employment not to exceed 4 years. No new appointments may be made under this authority after December 31, 2012.

06. Department of Defense (Sch. A, 213.3106)

(a) Office of the Secretary—

(1)-(5) (Reserved)

(6) One Executive Secretary, US-USSR Standing Consultative Commission and Staff Analyst (SALT), Office of the Assistant Secretary of Defense (International Security Affairs).

(b) Entire Department (including the Office of the Secretary of Defense and the Departments of the Army, Navy, and Air Force)—

(1) Dependent School Systems overseas—Professional positions in Military Dependent School systems overseas.

(2) Positions in Attaché 1 systems overseas, including all professional and scientific positions in the Naval Research Branch Office in London.

(3) Positions of clerk-translator, translator, and interpreter overseas.

(4) Positions of Educational Specialist the incumbents of which will serve as Director of Religious Education on the staffs of the chaplains in the military services.

(5) Positions under the program for utilization of alien scientists, approved under pertinent directives administered by the Director of Defense Research and Engineering of the Department of Defense, when occupied by alien scientists initially employed under the program including those who have acquired United States citizenship during such employment.

(6) Positions in overseas installations of the DOD when filled by dependents of military or civilian employees of the U.S. Government residing in the area. Employment under this authority may not extend longer than 2 months following the transfer from the area or separation of a dependent's sponsor: Provided that—

(i) A school employee may be permitted to complete the school year; and

(ii) An employee other than a school employee may be permitted to serve up to 1 additional year when the military department concerned finds that the additional employment is in the interest of management.

(7) Twenty secretarial and staff support positions at GS-12 or below on the White House Support Group.

(8) Positions in DOD research and development activities occupied by participants in the DOD Science and Engineering Apprenticeship Program for High School Students. Persons employed under this authority shall be bona fide high school students, at least 14 years old, pursuing courses related to the position occupied and limited to 1,040 working hours a year. Children of DOD employees may be appointed to these positions, notwithstanding the sons and daughters restriction, if the positions are in field activities at remote locations. Appointments under this authority may be made only to positions for which qualification standards established under 5 CFR part 302 are consistent with the education and experience standards established for comparable positions in the competitive service. Appointments under this authority may not be used to extend the service limits contained in any other appointing authority.

(9) (Reserved)

(10) Temporary or time-limited positions in direct support of U.S. Government efforts to rebuild and create an independent, free and secure Iraq and Afghanistan, when no other appropriate appointing authority applies. Positions will generally be located in Iraq or Afghanistan, but may be in other locations, including the United States, when directly supporting operations in Iraq or in Afghanistan. No new appointments may be made under this authority after September 30, 2014.

(11) Not to exceed 3,000 positions that require unique cyber security skills and knowledge to perform cyber risk and strategic analysis, incident handling and malware/vulnerability analysis, program management, distributed control systems security, cyber incident response, cyber exercise facilitation and management, cyber vulnerability detection and assessment, network and systems engineering, enterprise architecture, investigation, investigative analysis and cyber-related infrastructure inter-dependency analysis. This authority may be used to make permanent, time-limited and temporary appointments in the following occupational series: Security (GS-0080), computer engineers (GS-0854), electronic engineers (GS-0855), computer scientists (GS-1550), operations research (GS-1515), criminal investigators (GS-1811), telecommunications (GS-0391), and IT specialists (GS-2210). Within the scope of this authority, the U.S. Cyber Command is also authorized to hire miscellaneous administrative and program (GS-0301) series when those positions require unique cyber security skills and knowledge. All positions will be at the General Schedule (GS) grade levels 09-15 or equivalent. No new appointments may be made under this authority after December 31, 2017.

(c) (Reserved)

(d) General—

(1) Positions concerned with advising, administering, supervising, or performing work in the collection, processing, analysis, production, evaluation, interpretation, dissemination, and estimation of intelligence information, including scientific and technical positions in the intelligence function; and positions involved in the planning, programming, and management of intelligence resources when, in the opinion of OPM, it is impracticable to examine. This authority does not apply to positions assigned to cryptologic and communications intelligence activities/functions.

(2) Positions involved in intelligence-related work of the cryptologic intelligence activities of the military departments. This includes all positions of intelligence research specialist, and similar positions in the intelligence classification series; all scientific and technical positions involving the applications of engineering, physical, or technical sciences to intelligence work; and professional as well as intelligence technician positions in which a majority of the incumbent's time is spent in advising, administering, supervising, or performing work in the collection, processing, analysis, production, evaluation, interpretation, dissemination, and estimation of intelligence information or in the planning, programming, and management of intelligence resources.

(e) Uniformed Services University of the Health Sciences—

(1) Positions of President, Vice Presidents, Assistant Vice Presidents, Deans, Deputy Deans, Associate Deans, Assistant Deans, Assistants to the President, Assistants to the Vice Presidents, Assistants to the Deans, Professors, Associate Professors, Assistant Professors, Instructors, Visiting Scientists, Research Associates, Senior Research Associates, and Postdoctoral Fellows.

(2) Positions established to perform work on projects funded from grants.

(f) National Defense University—

(1) Not to exceed 16 positions of senior policy analyst, GS-15, at the Strategic Concepts Development Center. Initial appointments to these positions may not exceed 6 years, but may be extended thereafter in 1-, 2-, or 3-year increments, indefinitely.

(g) Defense Communications Agency—

(1) Not to exceed 10 positions at grades GS-10/15 to staff and support the Crisis Management Center at the White House.

(h) Defense Acquisition University—

(1) The Provost and professors.

(i) George C. Marshall European Center for Security Studies, Garmisch, Germany—

(1) The Director, Deputy Director, and positions of professor, instructor, and lecturer at the George C. Marshall European Center for Security Studies, Garmisch, Germany, for initial employment not to exceed 3 years, which may be renewed in increments from 1 to 2 years thereafter.

(j) Asia-Pacific Center for Security Studies, Honolulu, Hawaii—

(1) The Director, Deputy Director, Dean of Academics, Director of College, deputy department chairs, and senior positions of professor, associate professor, and research fellow within the Asia Pacific Center. Appointments may be made not to exceed 3 years and may be extended for periods not to exceed 3 years.

(k) Business Transformation Agency—

(1) Fifty temporary or time-limited (not to exceed four years) positions, at grades GS-11 through GS-15. The authority will be used to appoint persons in the following series: Management and Program Analysis, GS-343: Logistics Management, GS-346; Financial Management Programs, GS-501; Accounting, GS-510; Computer Engineering, GS-854; Business and Industry, GS-1101; Operations Research, GS-1515; Computer Science, GS-1550; General Supply, GS-2001; Supply Program Management, GS-2003; Inventory Management, GS-2010; and Information Technology, GS-2210.

(l) Special Inspector General for Afghanistan—

(1) Positions needed to establish the Special Inspector General for Afghanistan Reconstruction. These positions provide for the independent and objective conduct and supervision of audits and investigations relating to the programs and operations funded with amounts appropriated and otherwise made available for the reconstruction of Afghanistan. These positions are established at General Schedule (GS) grade levels for initial employment not to exceed 3 years and may, with prior approval of OPM, be extended for an additional period of 2 years. No new appointments may be made under this authority after January 31, 2011.

07. Department of the Army (Sch. A, 213.3107)

(a)-(c) (Reserved)

(d) U.S. Military Academy, West Point, New York—

(1) Civilian professors, instructors, teachers (except teachers at the Children's School), Cadet Social Activities Coordinator, Chapel Organist and Choir-Master, Director of Intercollegiate Athletics, Associate Director of Intercollegiate Athletics, Coaches, Facility Manager, Building Manager, three Physical Therapists (Athletic Trainers), Associate Director of Admissions for Plans and Programs, Deputy Director of Alumni Affairs; and Librarian when filled by an officer of the Regular Army retired from active service, and the Military Secretary to the Superintendent when filled by a U.S. Military Academy graduate retired as a regular commissioned officer for disability.

(e)-(f) (Reserved)

(g) Defense Language Institute—

(1) All positions (professors, instructors, lecturers) which require proficiency in a foreign language or knowledge of foreign language teaching methods.

(h) Army War College, Carlisle Barracks, PA—

(1) Positions of professor, instructor, or lecturer associated with courses of instruction of at least 10 months duration for employment not to exceed 5 years, which may be renewed in 1-, 2-, 3-, 4-, or 5-year increments indefinitely thereafter.

(i) (Reserved)

(j) U.S. Military Academy Preparatory School, West Point, New York—

(1) Positions of Academic Director, Department Head, and Instructor.

(k) U.S. Army Command and General Staff College, Fort Leavenworth, Kansas—

(1) Positions of professor, associate professor, assistant professor, and instructor associated with courses of instruction of at least 10 months duration, for employment not to exceed up to 5 years, which may be renewed in 1-, 2-, 3-, 4-, or 5-year increments indefinitely thereafter.

08. Department of the Navy (Sch. A, 213.3108)

(a) General—

(1)-(14) (Reserved)

(15) Marine positions assigned to a coastal or seagoing vessel operated by a naval activity for research or training purposes.

(16) All positions necessary for the administration and maintenance of the official residence of the Vice President.

(b) Naval Academy, Naval Postgraduate School, and Naval War College—

(1) Professors, Instructors, and Teachers; the Director of Academic Planning, Naval Postgraduate School; and the Librarian, Organist-Choirmaster, Registrar, the Dean of Admissions, and Social Counselors at the Naval Academy.

(c) Chief of Naval Operations—

(1) One position at grade GS-12 or above that will provide technical, managerial, or administrative support on highly classified functions to the Deputy Chief of Naval Operations (Plans, Policy, and Operations).

(d) Military Sealift Command

(1) All positions on vessels operated by the Military Sealift Command.

(e)-(f) (Reserved)

(g) Office of Naval Research—

(1) Scientific and technical positions, GS-13/15, in the Office of Naval Research International Field Office which covers satellite offices within the Far East, Africa, Europe, Latin America, and the South Pacific. Positions are to be filled by personnel having specialized experience in scientific and/or technical disciplines of current interest to the Department of the Navy.

09. Department of the Air Force (Sch. A, 213.3109)

(a) Office of the Secretary—

(1) One Special Assistant in the Office of the Secretary of the Air Force. This position has advisory rather than operating duties except as operating or administrative responsibilities may be exercised in connection with the pilot studies.

(b) General—

(1) Professional, technical, managerial and administrative positions supporting space activities, when approved by the Secretary of the Air Force.

(2) Two hundred positions, serviced by Hill Air Force Base, Utah, engaged in interdepartmental activities in support of national defense projects involving scientific and technical evaluations.

(c) Norton and McClellan Air Force Bases, California—

(1) Not to exceed 20 professional positions, GS-11 through GS-15, in Detachments 6 and 51, SM-ALC, Norton and McClellan Air Force Bases, California, which will provide logistic support management to specialized research and development projects.

(d) U.S. Air Force Academy, Colorado—

(1) (Reserved)

(2) Positions of Professor, Associate Professor, Assistant Professor, and Instructor, in the Dean of Faculty, Commandant of Cadets, Director of Athletics, and Preparatory School of the United States Air Force Academy.

(e) (Reserved)

(f) Air Force Office of Special Investigations—

(1) Positions of Criminal Investigators/Intelligence Research Specialists, GS-5 through GS-15, in the Air Force Office of Special Investigations.

(g) Wright-Patterson Air Force Base, Ohio—

(1) Not to exceed eight positions, GS-12 through 15, in Headquarters Air Force Logistics Command, DCS Material Management, Office of Special Activities, Wright-Patterson Air Force Base, Ohio, which will provide logistic support management staff guidance to classified research and development projects.

(h) Air University, Maxwell Air Force Base, Alabama—

(1) Positions of Professor, Instructor, or Lecturer.

(i) Air Force Institute of Technology, Wright-Patterson Air Force Base, Ohio—

(1) Civilian deans and professors.

(j) Air Force Logistics Command—

(1) One Supervisory Logistics Management Specialist, GM-346-14, in Detachment 2, 2762 Logistics Management Squadron (Special), Greenville, Texas.

(k) Wright-Patterson AFB, Ohio—

(1) One position of Supervisory Logistics Management Specialist, GS-346-15, in the 2762nd Logistics Squadron (Special), at Wright-Patterson Air Force Base, Ohio.

(l) Air National Guard Readiness Center—

(1) One position of Commander, Air National Guard Readiness Center, Andrews Air Force Base, Maryland.

10. Department of Justice (Sch. A, 213.3110)

(a) General—

(1) Deputy U.S. Marshals employed on an hourly basis for intermittent service.

(2) Positions at GS-15 and below on the staff of an office of a special counsel.

(3)-(5) (Reserved)

(6) Positions of Program Manager and Assistant Program Manager supporting the International Criminal Investigative Training Assistance Program in foreign countries. Initial appointments under this authority may not exceed 2 years, but may be extended in 1-year increments for the duration of the in-country program.

(7) Positions necessary throughout DOJ, for the excepted service transfer of NDIC employees hired under Schedule A, 213.3110(d). Authority expires September 30, 2012.

(b) (Reserved)

(c) Drug Enforcement Administration—

(1) (Reserved)

(2) Four hundred positions of Intelligence Research Agent and/or Intelligence Operation Specialist in the GS-132 series, grades GS-9 through GS-15.

(3) Not to exceed 200 positions of Criminal Investigator (Special Agent). New appointments may be made under this authority only at grades GS-7/11.

(d) (Reserved, moved to Justice)

(e) Bureau of Alcohol, Tobacco, and Firearms—

(1) One hundred positions of Criminal Investigator for special assignments.

(2) One non-permanent Senior Level (SL) Criminal Investigator to serve as a senior advisor to the Assistant Director (Firearms, Explosives, and Arson).

11. Department of Homeland Security (Sch. A, 213.3111)

(a) (Revoked 11/19/2009)

(b) Law Enforcement Policy—

(1) Ten positions for oversight policy and direction of sensitive law enforcement activities.

(c) Homeland Security Labor Relations Board/Homeland Security Mandatory Removal Board—

(1) Up to 15 Senior Level and General Schedule (or equivalent) positions.

(d) General—

(1) Not to exceed 800 positions to perform cyber risk and strategic analysis, incident handling and malware/vulnerability analysis, program management, distributed control systems security, cyber incident response, cyber exercise facilitation and management, cyber vulnerability detection and assessment, network and systems engineering, enterprise architecture, intelligence analysis, investigation, investigative analysis and cyber-related infrastructure interdependency analysis requiring unique qualifications currently not established by OPM. Positions will be in the following occupations: Security (GS-0080), intelligence analysts (GS-0123), investigators (GS-1810), investigative analyst (GS-1805), and criminal investigators (GS-1811) at the General Schedule (GS) grade levels 09-15. No new appointments may be made under this authority after January 5, 2020 or the effective date of the completion of regulations.

(e) Papago Indian Agency—Not to exceed 25 positions of Immigration and Customs Enforcement (ICE) Tactical Officers (Shadow Wolves) in the Papago Indian Agency in the State of Arizona when filled by the appointment of persons of one-fourth or more Indian blood. (Formerly 213.3105(b)(9))

(f) U.S. Citizenship and Immigration Services—

(1) Reserved. (Formerly 213.3110(b)(1))

(2) Not to exceed 500 positions of interpreters and language specialists, GS-1040-5/9. (Formerly 213.3110(b)(2))

(3) Reserved. (Formerly 213.3110(b)(3))

(g) U.S. Immigration and Customs Enforcement—

(1) Not to exceed 200 staff positions, GS-15 and below for an emergency staff to provide health related services to foreign entrants. (Formerly 213.3116(b)(16))

(h) Federal Emergency Management Agency—

(1) Field positions at grades GS-15 and below, or equivalent, which are engaged in work directly related to unique response efforts to environmental emergencies not covered by the Disaster Relief Act of 1974, Public Law 93-288, as amended. Employment under this authority may not exceed 36 months on any single emergency. Persons may not be employed under this authority for long-term duties or for work not directly necessitated by the emergency response effort. (Formerly 213.3195(a))

(2) Not to exceed 30 positions at grades GS-15 and below in the Offices of Executive Administration, General Counsel, Inspector General, Comptroller, Public Affairs, Personnel, Acquisition Management, and the State and Local Program and Support Directorate which are engaged in work directly related to unique response efforts to environmental emergencies not covered by the Disaster Relief Act of 1974, Public Law 93-288, as amended. Employment under this authority may not exceed 36 months on any single emergency, or for long-term duties or work not directly necessitated by the emergency response effort. No one may be reappointed under this authority for service in connection with a different emergency unless at least 6 months have elapsed since the individual's latest appointment under this authority. (Formerly 213.3195(b))

(3) Not to exceed 350 professional and technical positions at grades GS-5 through GS-15, or equivalent, in Mobile Emergency Response Support Detachments (MERS). (Formerly 213.3195(c))

(i) U.S. Coast Guard—

(1) Reserved. (Formerly 213.3194(a))

(2) Lamplighters. (Formerly 213.3194(b))

(3) Professors, Associate Professors, Assistant Professors, Instructors, one Principal Librarian, one Cadet Hostess, and one Psychologist (Counseling) at the Coast Guard Academy, New London, Connecticut. (Formerly 213.3194(c))

12. Department of the Interior (Sch. A, 213.3112)

(a) General—

(1) Technical, maintenance, and clerical positions at or below grades GS-7, WG-10, or equivalent, in the field service of the Department of the Interior, when filled by the appointment of persons who are certified as maintaining a permanent and exclusive residence within, or contiguous to, a field activity or district, and as being dependent for livelihood primarily upon employment available within the field activity of the Department.

(2) All positions on Government-owned ships or vessels operated by the Department of the Interior.

(3) Temporary or seasonal caretakers at temporarily closed camps or improved areas to maintain grounds, buildings, or other structures and prevent damages or theft of Government property. Such appointments shall not extend beyond 130 working days a year without the prior approval of OPM.

(4) Temporary, intermittent, or seasonal field assistants at GS-7, or its equivalent, and below in such areas as forestry, range management, soils, engineering, fishery and wildlife management, and with surveying parties. Employment under this authority may not exceed 180 working days a year.

(5) Temporary positions established in the field service of the Department for emergency forest and range fire prevention or suppression and blister rust control for not to exceed 180 working days a year: Provided, that an employee may work as many as 220 working days a year when employment beyond 180 days is required to cope with extended fire seasons or sudden emergencies such as fire, flood, storm, or other unforeseen situations involving potential loss of life or property.

(6) Persons employed in field positions, the work of which is financed jointly by the Department of the Interior and cooperating persons or organizations outside the Federal service.

(7) All positions in the Bureau of Indian Affairs and other positions in the Department of the Interior directly and primarily related to providing services to Indians when filled by the appointment of Indians. The Secretary of the Interior is responsible for defining the term “Indian.”

(8) Temporary, intermittent, or seasonal positions at GS-7 or below in Alaska, as follows: Positions in nonprofessional mining activities, such as those of drillers, miners, caterpillar operators, and samplers. Employment under this authority shall not exceed 180 working days a year and shall be appropriate only when the activity is carried on in a remote or isolated area and there is a shortage of available candidates for the positions.

(9) Temporary, part-time, or intermittent employment of mechanics, skilled laborers, equipment operators, and tradesmen on construction, repair, or maintenance work not to exceed 180 working days a year in Alaska, when the activity is carried on in a remote or isolated area and there is a shortage of available candidates for the positions.

(10) Seasonal airplane pilots and airplane mechanics in Alaska, not to exceed 180 working days a year.

(11) Temporary staff positions in the Youth Conservation Corps Centers operated by the Department of the Interior. Employment under this authority shall not exceed 11 weeks a year except with prior approval of OPM.

(12) Positions in the Youth Conservation Corps for which pay is fixed at the Federal minimum wage rate. Employment under this authority may not exceed 10 weeks.

(b) (Reserved)

(c) Indian Arts and Crafts Board—

(1) The Executive Director

(d) (Reserved)

(e) Office of the Assistant Secretary, Territorial and International Affairs—

(1) (Reserved)

(2) Not to exceed four positions of Territorial Management Interns, grades GS-5, GS-7, or GS-9, when filled by territorial residents who are U.S. citizens from the Virgin Islands or Guam; U.S. nationals from American Samoa; or in the case of the Northern Marianas, will become U.S. citizens upon termination of the U.S. trusteeship. Employment under this authority may not exceed 6 months.

(3) (Reserved)

(4) Special Assistants to the Governor of American Samoa who perform specialized administrative, professional, technical, and scientific duties as members of his or her immediate staff.

(f) National Park Service—

(1) (Reserved)

(2) Positions established for the administration of Kalaupapa National Historic Park, Molokai, Hawaii, when filled by appointment of qualified patients and Native Hawaiians, as provided by Public Law 95-565.

(3) Seven full-time permanent and 31 temporary, part-time, or intermittent positions in the Redwood National Park, California, which are needed for rehabilitation of the park, as provided by Public Law 95-250.

(4) One Special Representative of the Director.

(5) All positions in the Grand Portage National Monument, Minnesota, when filled by the appointment of recognized members of the Minnesota Chippewa Tribe.

(g) Bureau of Reclamation—

(1) Appraisers and examiners employed on a temporary, intermittent, or part-time basis on special valuation or prospective-entrymen-review projects where knowledge of local values on conditions or other specialized qualifications not possessed by regular Bureau employees are required for successful results. Employment under this provision shall not exceed 130 working days a year in any individual case: Provided, that such employment may, with prior approval of OPM, be extended for not to exceed an additional 50 working days in any single year.

(h) Office of the Deputy Assistant Secretary for Territorial Affairs—

(1) Positions of Territorial Management Interns, GS-5, when filled by persons selected by the Government of the Trust Territory of the Pacific Islands. No appointment may extend beyond 1 year.

13. Department of Agriculture (Sch. A, 213.3113)

(a) General—

(1) Agents employed in field positions the work of which is financed jointly by the Department and cooperating persons, organizations, or governmental agencies outside the Federal service. Except for positions for which selection is jointly made by the Department and the cooperating organization, this authority is not applicable to positions in the Agricultural Research Service or the National Agricultural Statistics Service. This authority is not applicable to the following positions in the Agricultural Marketing Service: Agricultural commodity grader (grain) and (meat), (poultry), and (dairy), agricultural commodity aid (grain), and tobacco inspection positions.

(2)-(4) (Reserved)

(5) Temporary, intermittent, or seasonal employment in the field service of the Department in positions at and below GS-7 and WG-10 in the following types of positions: Field assistants for sub professional services; agricultural helpers, helper-leaders, and workers in the Agricultural Research Service and the Animal and Plant Health Inspection Service; and subject to prior OPM approval granted in the calendar year in which the appointment is to be made, other clerical, trades, crafts, and manual labor positions. Total employment under this subparagraph may not exceed 180 working days in a service year: Provided, that an employee may work as many as 220 working days in a service year when employment beyond 180 days is required to cope with extended fire seasons or sudden emergencies such as fire, flood, storm, or other unforeseen situations involving potential loss of life or property. This paragraph does not cover trades, crafts, and manual labor positions covered by paragraph (i) of Sec. 213.3102 or positions within the Forest Service.

(6)-(7) (Reserved)

(b)-(c) (Reserved)

(d) Farm Service Agency—

(1) (Reserved)

(2) Members of State Committees: Provided, that employment under this authority shall be limited to temporary intermittent (WAE) positions whose principal duties involve administering farm programs within the State consistent with legislative and Departmental requirements and reviewing national procedures and policies for adaptation at State and local levels within established parameters. Individual appointments under this authority are for 1 year and may be extended only by the Secretary of Agriculture or his designee. Members of State Committees serve at the pleasure of the Secretary.

(e) Rural Development—

(1) (Reserved)

(2) County committeemen to consider, recommend, and advise with respect to the Rural Development program.

(3)-(5) (Reserved)

(6) Professional and clerical positions in the Trust Territory of the Pacific Islands when occupied by indigenous residents of the Territory to provide financial assistance pursuant to current authorizing statutes.

(f) Agricultural Marketing Service—

(1) Positions of Agricultural Commodity Graders, Agricultural Commodity Technicians, and Agricultural Commodity Aids at grades GS-9 and below in the tobacco, dairy, and poultry commodities; Meat Acceptance Specialists, GS-11 and below; Clerks, Office Automation Clerks, and Computer Clerks at GS-5 and below; Clerk-Typists at grades GS-4 and below; and Laborers under the Wage System. Employment under this authority is limited to either 1,280 hours or 180 days in a service year.

(2) Positions of Agricultural Commodity Graders, Agricultural Commodity Technicians, and Agricultural Commodity Aids at grades GS-11 and below in the cotton, raisin, peanut, and processed and fresh fruit and vegetable commodities and the following positions in support of these commodities: Clerks, Office Automation Clerks, and Computer Clerks and Operators at GS-5 and below; Clerk-Typists at grades GS-4 and below; and, under the Federal Wage System, High Volume Instrumentation (HVI) Operators and HVI Operator Leaders at WG/WL-2 and below, respectively, Instrument Mechanics/Workers/Helpers at WG-10 and below, and Laborers. Employment under this authority may not exceed 180 days in a service year. In unforeseen situations such as bad weather or crop conditions, unanticipated plant demands, or increased imports, employees may work up to 240 days in a service year. Cotton Agricultural Commodity Graders, GS-5, may be employed as trainees for the first appointment for an initial period of 6 months for training without regard to the service year limitation.

(3) Milk Market Administrators

(4) All positions on the staffs of the Milk Market Administrators.

(g)-(k) (Reserved)

(l) Food Safety and Inspection Service—

(1)-(2) (Reserved)

(3) Positions of Meat and Poultry Inspectors (Veterinarians at GS-11 and below and non-Veterinarians at appropriate grades below GS-11) for employment on a temporary, intermittent, or seasonal basis, not to exceed 1,280 hours a year.

(m) Grain Inspection, Packers and Stockyards Administration—

(1) One hundred and fifty positions of Agricultural Commodity Aid (Grain), GS-2/4; 100 positions of Agricultural Commodity Technician (Grain), GS-4/7; and 60 positions of Agricultural Commodity Grader (Grain), GS-5/9, for temporary employment on a part-time, intermittent, or seasonal basis not to exceed 1,280 hours in a service year.

(n) Alternative Agricultural Research and Commercialization Corporation—

(1) Executive Director

14. Department of Commerce (Sch. A, 213.3114)

(a) General—

(1)-(2) (Reserved)

(3) Not to exceed 50 scientific and technical positions whose duties are performed primarily in the Antarctic. Incumbents of these positions may be stationed in the continental United States for periods of orientation, training, analysis of data, and report writing.

(b)-(c) (Reserved)

(d) Bureau of the Census—

(1) Positions in support of decennial operations (including decennial pre-tests). Appointments may be made on a time limited basis that lasts the duration of decennial operations but may not exceed 7 years. Extensions beyond 7 years may be requested on a case-by-case basis

(2) Positions of clerk, field representative, field leader, and field supervisor in support of data collection operations (non-decennial operations). Appointments may be made on a permanent or a time-limited basis. Appointments made on a time limited basis may not exceed 4 years. Extensions beyond 4 years may be requested on a case-by-case basis.

(e)-(h) (Reserved)

(i) Office of the Under Secretary for International Trade—

(1) Fifteen positions at GS-12 and above in specialized fields relating to international trade or commerce in units under the jurisdiction of the Under Secretary for International Trade. Incumbents will be assigned to advisory rather than to operating duties, except as operating and administrative responsibility may be required for the conduct of pilot studies or special projects. Employment under this authority will not exceed 2 years for an individual appointee.

(2) (Reserved)

(3) Not to exceed 15 positions in grades GS-12 through GS-15, to be filled by persons qualified as industrial or marketing specialists; who possess specialized knowledge and experience in industrial production, industrial operations and related problems, market structure and trends, retail and wholesale trade practices, distribution channels and costs, or business financing and credit procedures applicable to one or more of the current segments of U.S. industry served by the Under Secretary for International Trade, and the subordinate components of his organization which are involved in Domestic Business matters. Appointments under this authority may be made for a period not to exceed 2 years and may, with prior OPM approval, be extended for an additional 2 years.

(j) National Oceanic and Atmospheric Administration—

(1)-(2) (Reserved)

(3) All civilian positions on vessels operated by the National Ocean Service.

(4) Temporary positions required in connection with the surveying operations of the field service of the National Ocean Service. Appointment to such positions shall not exceed 8 months in any 1 calendar year.

(k) (Reserved)

(l) National Telecommunication and Information Administration—

(1) Thirty-eight professional positions in grades GS-13 through GS-15.

15. Department of Labor (Sch. A, 213.3115)

(a) Office of the Secretary—

(1) Chairman and five members, Employees' Compensation Appeals Board.

(2) Chairman and eight members, Benefits Review Board.

(b)-(c) (Reserved)

(d) Employment and Training Administration—

(1) Not to exceed 10 positions of Supervisory Manpower Development Specialist and Manpower Development Specialist, GS-7/15, in the Division of Indian and Native American Programs, when filled by the appointment of persons of one-fourth or more Indian blood. These positions require direct contact with Indian tribes and communities for the development and administration of comprehensive employment and training programs.

16. Department of Health and Human Services (Sch. A, 213.3116)

(a) General—

(1) Intermittent positions, at GS-15 and below and WG-10 and below, on teams under the National Disaster Medical System including Disaster Medical Assistance Teams and specialty teams, to respond to disasters, emergencies, and incidents/events involving medical, mortuary and public health needs.

(b) Public Health Service—

(1) (Reserved)

(2) Positions at Government sanatoria when filled by patients during treatment or convalescence.

(3) (Reserved)

(4) Positions concerned with problems in preventive medicine financed or participated in by the Department of Health and Human Services and a cooperating State, county, municipality, incorporated organization, or an individual in which at least one-half of the expense is contributed by the participating agency either in salaries, quarters, materials, equipment, or other necessary elements in the carrying on of the work.

(5)-(6) (Reserved)

(7) Not to exceed 50 positions associated with health screening programs for refugees.

(8) All positions in the Public Health Service and other positions in the Department of Health and Human Services directly and primarily related to providing services to Indians when filled by the appointment of Indians. The Secretary of Health and Human Services is responsible for defining the term “Indian.”

(9) (Reserved)

(10) Health care positions of the National Health Service Corps for employment of any one individual not to exceed 4 years of service in health manpower shortage areas.

(11)-(15) (Reserved)

(c)-(e) (Reserved)

(f) The President's Council on Physical Fitness—

(1) Four staff assistants.

17. Department of Education (Sch. A, 213.3117)

(a) Positions concerned with problems in education financed and participated in by the Department of Education and a cooperating State educational agency, or university or college, in which there is joint responsibility for selection and supervision of employees, and at least one-half of the expense is contributed by the cooperating agency in salaries, quarters, materials, equipment, or other necessary elements in the carrying on of the work.

18. Environmental Protection Agency (Sch. A, 213.3118)

24. Board of Governors, Federal Reserve System (Sch. A, 213.3124)

(a) All positions

27. Department of Veterans Affairs (Sch. A, 213.3127)

(a) Construction Division—

(1) Temporary construction workers paid from “purchase and hire” funds and appointed for not to exceed the duration of a construction project.

(b) Alcoholism Treatment Units and Drug Dependence Treatment Centers—

(1) Not to exceed 400 positions of rehabilitation counselors, GS-3 through GS-11, in Alcoholism Treatment Units and Drug Dependence Treatment Centers, when filled by former patients.

(c) Board of Veterans' Appeals—

(1) Positions, GS-15, when filled by a member of the Board. Except as provided by section 201(d) of Public Law 100-687, appointments under this authority shall be for a term of 9 years, and may be renewed.

(2) Positions, GS-15, when filled by a non-member of the Board who is awaiting Presidential approval for appointment as a Board member.

(d) Vietnam Era Veterans Readjustment Counseling Service—

(1) Not to exceed 600 positions at grades GS-3 through GS-11, involved in the Department's Vietnam Era Veterans Readjustment Counseling Service.

(e) Not to Exceed 75 positions that require unique technical skills needed for the re-designing and re-building of digital interfaces between citizens, businesses, and government as a part of Smarter Information Technology Delivery Initiative. This authority may be used to make permanent, time-limited and temporary appointments to non-supervisory Digital Services Expert positions (GS-301) directly related to the implementation of the Smarter Information Technology Delivery Initiative at the GS-15 level. No new appointments may be made under this authority after September 30, 2017.

32. Small Business Administration (Sch. A, 213.3132)

(a) When the President under 42 U.S.C. 1855-1855g, the Secretary of Agriculture under 7 U.S.C. 1961, or the Small Business Administration under 15 U.S.C. 636(b)(1) declares an area to be a disaster area, positions filled by time-limited appointment of employees to make and administer disaster loans in the area under the Small Business Act, as amended. Service under this authority may not exceed 4 years, and no more than 2 years may be spent on a single disaster. Exception to this time limit may only be made with prior Office of Personnel Management approval. Appointments under this authority may not be used to extend the 2-year service limit contained below. No one may be appointed under this authority to positions engaged in long-term maintenance of loan portfolios.

(b) When the President under 42 U.S.C. 1855-1855g, the Secretary of Agriculture under 7 U.S.C. 1961, or the Small Business Administration under 15 U.S.C. 636(b)(1) declares an area to be a disaster area, positions filled by time-limited appointment of employees to make and administer disaster loans in that area under the Small Business Act, as amended. No one may serve under this authority for more than an aggregate of 2 years without a break in service of at least 6 months. Persons who have had more than 2 years of service under paragraph (a) of this section must have a break in service of at least 8 months following such service before appointment under this authority. No one may be appointed under this authority to positions engaged in long-term maintenance of loan portfolios.

33. Federal Deposit Insurance Corporation (Sch. A, 213.3133)

(a)-(b) (Reserved)

(c) Temporary or time-limited positions that are directly related with resolving failing insured depository institutions; financial companies; or brokers and dealers; covered by the Dodd-Frank Wall Street Reform and Consumer Protection Act, including but not limited to, the marketing and sale of institutions and any associated assets; paying insured depositors; and managing receivership estates and all associated receivership management activities, up to termination. Time limited appointments under this authority may not exceed 7 years.

36. U.S. Soldiers' and Airmen's Home (Sch. A, 213.3136)

(a) (Reserved)

(b) Positions when filled by member-residents of the Home.

37. General Services Administration (Sch. A, 213.3137)

(a) Not to Exceed 203 positions that require unique technical skills needed for the re-designing and re-building of digital interfaces between citizens, businesses, and government as a part of Smarter Information Technology Delivery Initiative. This authority may be used nationwide to make permanent, time-limited and temporary appointments to Digital Services Expert positions (GS-301) directly related to the implementation of the Smarter Information Technology Delivery Initiative at the GS-11 to 15 level. No new appointments may be made under this authority after September 30, 2017.

46. Selective Service System (Sch. A, 213.3146)

(a) State Directors

48. National Aeronautics and Space Administration (Sch. A, 213.3148)

(a) One hundred and fifty alien scientists having special qualifications in the fields of aeronautical and space research where such employment is deemed by the Administrator of the National Aeronautics and Space Administration to be necessary in the public interest.

55. Social Security Administration (Sch. A, 213.3155)

(a) Arizona District Offices—

(1) Six positions of Social Insurance Representative in the district offices of the Social Security Administration in the State of Arizona when filled by the appointment of persons of one-fourth or more Indian blood.

(b) New Mexico—

(1) Seven positions of Social Insurance Representative in the district offices of the Social Security Administration in the State of New Mexico when filled by the appointment of persons of one-fourth or more Indian blood.

(c) Alaska—

(1) Two positions of Social Insurance Representative in the district offices of the Social Security Administration in the State of Alaska when filled by the appointments of persons of one-fourth or more Alaskan Native blood (Eskimos, Indians, or Aleuts).

62. The President's Crime Prevention Council (Sch. A, 213.3162)

(a) (Reserved)

65. Chemical Safety and Hazard Investigation Board (Sch. A, 213.3165)

(a) (Reserved)

(b) (Reserved)

66. Court Services and Offender Supervision Agency of the District of Columbia (Sch. A, 213.3166)

(a) (Reserved, expired 3/31/2004)

70. Millennium Challenge Corporation (MCC) (Sch. A, 213.3170)

(a) (Reserved, expired 9/30/2007)

(b)

(1) Positions of Resident Country Director and Deputy Resident Country Director, Threshold Director and Deputy Threshold Director. The length of appointments will correspond to the length or term of the compact agreements made between the MCC and the country in which the MCC will work, plus one additional year to cover pre- and post-compact agreement related activities.

74. Smithsonian Institution (Sch. A, 213.3174)

(a) (Reserved)

(b) Smithsonian Tropical Research Institute—All positions located in Panama which are part of or which support the Smithsonian Tropical Research Institute.

(c) National Museum of the American Indian—Positions at GS-15 and below requiring knowledge of, and experience in, tribal customs and culture. Such positions comprise approximately 10 percent of the Museum's positions and, generally, do not include secretarial, clerical, administrative, or program support positions.

75. Woodrow Wilson International Center for Scholars (Sch. A, 213.3175)

(a) One Asian Studies Program Administrator, one International Security Studies Program Administrator, one Latin American Program Administrator, one Russian Studies Program Administrator, two Social Science Program Administrators, one Middle East Studies Program Administrator, one African Studies Program Administrator, one Global Sustainability and Resilience Program Administrator, one Canadian Studies Program Administrator; one China Studies Program Administrator, and one Science, Technology and Innovation Program Administrator.

78. Community Development Financial Institutions Fund (Sch. A, 213.3178)

(a) (Reserved, expired 9/23/1998)

80. Utah Reclamation and Conservation Commission (Sch. A, 213.3180)

(a) Executive Director

82. National Foundation on the Arts and the Humanities (Sch. A, 213.3182)

(a) National Endowment for the Arts—

(1) Artistic and related positions at grades GS-13 through GS-15 engaged in the review, evaluation and administration of applications and grants supporting the arts, related research and assessment, policy and program development, arts education, access programs and advocacy, or evaluation of critical arts projects and outreach programs. Duties require artistic stature, in-depth knowledge of arts disciplines and/or artistic-related leadership qualities.

90. African Development Foundation (Sch. A, 213.3190)

(a) One Enterprise Development Fund Manager. Appointment is limited to four years unless extended by OPM.

91. Office of Personnel Management (Sch. A, 213.3191)

(a)-(c) (Reserved)

(d) Part-time and intermittent positions of test examiners at grades GS-8 and below.

94. Department of Transportation (Sch. A, 213.3194)

(a)-(d) (Reserved)

(e) Maritime Administration—

(1)-(2) (Reserved)

(3) All positions on Government-owned vessels or those bareboats chartered to the Government and operated by or for the Maritime Administration.

(4)-(5) (Reserved)

(6) U.S. Merchant Marine Academy, positions of: Professors, Instructors, and Teachers, including heads of Departments of Physical Education and Athletics, Humanities, Mathematics and Science, Maritime Law and Economics, Nautical Science, and Engineering; Coordinator of Shipboard Training; the Commandant of Midshipmen, the Assistant Commandant of Midshipmen; Director of Music; three Battalion Officers; three Regimental Affairs Officers; and one Training Administrator.

(7) U.S. Merchant Marine Academy positions of: Associate Dean; Registrar; Director of Admissions; Assistant Director of Admissions; Director, Office of External Affairs; Placement Officer; Administrative Librarian; Shipboard Training Assistant; three Academy Training Representatives; and one Education Program Assistant.

(f) Up to 40 positions at the GS-13 through 15 grade levels and within authorized SL allocations necessary to support the following credit agency programs of the Department: The Federal Highway Administration's Transportation Infrastructure Finance and Innovation Act Program, the Federal Railroad Administration's Railroad Rehabilitation and Improvement Financing Program, the Federal Maritime Administration's Title XI Program, and the Office of the Secretary's Office of Budget and Programs Credit Staff. This authority may be used to make temporary, time-limited, or permanent appointments, as the DOT deems appropriate, in the following occupational series: Director or Deputy Director SL-301/340, Origination Team Lead SL-301, Deputy Director/Senior Financial Analyst GS-1160, Origination Financial Policy Advisor GS-301, Credit Budgeting Team Lead GS-1160, Credit Budgeting Financial Analysts GS-1160, Portfolio Monitoring Lead SL-1160, Portfolio Monitoring Financial Analyst GS-1160, Financial Analyst GS-1160. No new appointments may be made under this authority after December 31, 2014.

95. (Reserved)

Schedule B

03. Executive Office of the President (Sch. B, 213.3203)

(a) (Reserved)

(b) Office of the Special Representative for Trade Negotiations—

(1) Seventeen positions of economist at grades GS-12 through GS-15.

04. Department of State (Sch. B, 213.3204)

(a) (1) One non-permanent senior level position to serve as Science and Technology Advisor to the Secretary.

(b)-(c) (Reserved)

(d) Seventeen positions on the household staff of the President's Guest House (Blair and Blair-Lee Houses).

(e) (Reserved)

(f) Scientific, professional, and technical positions at grades GS-12 to GS-15 when filled by persons having special qualifications in foreign policy matters. Total employment under this authority may not exceed 4 years.

05. Department of the Treasury (Sch. B, 213.3205)

(a) Positions of Deputy Comptroller of the Currency, Chief National Bank Examiner, Assistant Chief National Bank Examiner, Regional Administrator of National Banks, Deputy Regional Administrator of National Banks, Assistant to the Comptroller of the Currency, National Bank Examiner, Associate National Bank Examiner, and Assistant National Bank Examiner, whose salaries are paid from assessments against national banks and other financial institutions.

(b)-(c) (Reserved)

(d) (Reserved) Transferred to 213.3211(b)

(e) (Reserved) Transferred to 213.3210(f)

06. Department of Defense (Sch. B, 213.3206)

(a) Office of the Secretary—

(1) (Reserved)

(2) Professional positions at GS-11 through GS-15 involving systems, costs, and economic analysis functions in the Office of the Assistant Secretary (Program Analysis and Evaluation); and in the Office of the Deputy Assistant Secretary (Systems Policy and Information) in the Office of the Assistant Secretary (Comptroller).

(3)-(4) (Reserved)

(5) Four Net Assessment Analysts.

(b) Interdepartmental activities—

(1) Seven positions to provide general administration, general art and information, photography, and/or visual information support to the White House Photographic Service.

(2) Eight positions, GS-15 or below, in the White House Military Office, providing support for airlift operations, special events, security, and/or administrative services to the Office of the President.

(c) National Defense University—

(1) Sixty-one positions of Professor, GS-13/15, for employment of any one individual on an initial appointment not to exceed 3 years, which may be renewed in any increment from 1 to 6 years indefinitely thereafter.

(d) General—

(1) One position of Law Enforcement Liaison Officer (Drugs), GS-301-15, U.S. European Command.

(2) Acquisition positions at grades GS-5 through GS-11, whose incumbents have successfully completed the required course of education as participants in the Department of Defense scholarship program authorized under 10 U.S.C. 1744.

(e) Office of the Inspector General—

(1) Positions of Criminal Investigator, GS-1811-5/15.

(f) Department of Defense Polygraph Institute, Fort McClellan, Alabama—

(1) One Director, GM-15.

(g) Defense Security Assistance Agency—

All faculty members with instructor and research duties at the Defense Institute of Security Assistance Management, Wright Patterson Air Force Base, Dayton, Ohio. Individual appointments under this authority will be for an initial 3-year period, which may be followed by an appointment of indefinite duration.

07. Department of the Army (Sch. B, 213.3207)

(a) U.S. Army Command and General Staff College—

(1) Seven positions of professors, instructors, and education specialists. Total employment of any individual under this authority may not exceed 4 years.

08. Department of the Navy (Sch. B, 213.3208)

(a) Naval Underwater Systems Center, New London, Connecticut—

(1) One position of Oceanographer, grade GS-14, to function as project director and manager for research in the weapons systems applications of ocean eddies.

(b) Armed Forces Staff College, Norfolk, Virginia—All civilian faculty positions of professors, instructors, and teachers on the staff of the Armed Forces Staff College, Norfolk, Virginia.

(c) Defense Personnel Security Research and Education Center—One Director and four Research Psychologists at the professor or GS-15 level.

(d) Marine Corps Command and Staff College—All civilian professor positions.

(e) Executive Dining facilities at the Pentagon—One position of Staff Assistant, GS-301, whose incumbent will manage the Navy's Executive Dining facilities at the Pentagon.

(f) (Reserved)

09. Department of the Air Force (Sch. B, 213.3209)

(a) Air Research Institute at the Air University, Maxwell Air Force Base, Alabama—Not to exceed four interdisciplinary positions for the Air Research Institute at the Air University, Maxwell Air Force Base, Alabama, for employment to complete studies proposed by candidates and acceptable to the Air Force. Initial appointments are made not to exceed 3 years, with an option to renew or extend the appointments in increments of 1-, 2-, or 3- years indefinitely thereafter.

(b)-(c) (Reserved)

(d) Air University—Positions of Instructor or professional academic staff at the Air University associated with courses of instruction of varying durations, for employment not to exceed 3 years, which may be renewed for an indefinite period thereafter.

(e) U.S. Air Force Academy, Colorado—One position of Director of Development and Alumni Programs, GS-301-13.

10. Department of Justice (Sch. B, 213.3210)

(a) Drug Enforcement Administration—

Criminal Investigator (Special Agent) positions in the Drug Enforcement Administration. New appointments may be made under this authority only at grades GS-5 through 11. Service under the authority may not exceed 4 years. Appointments made under this authority may be converted to career or career-conditional appointments under the provisions of Executive Order 12230, subject to conditions agreed upon between the Department and OPM.

(b) (Reserved)

(c) Not to exceed 400 positions at grades GS-5 through 15 assigned to regional task forces established to conduct special investigations to combat drug trafficking and organized crime.

(d) (Reserved)

(e) United States Trustees—Positions, other than secretarial, GS-6 through GS-15, requiring knowledge of the bankruptcy process, on the staff of the offices of United States Trustees or the Executive Office for U.S. Trustees.

(f) Bureau of Alcohol, Tobacco, and Firearms

(1) Positions, grades GS-5 through GS-12 (or equivalent), of Criminal Investigator. Service under this authority may not exceed 3 years and 120 days.

11. Department of Homeland Security (Sch. B, 213.3211)

(a) Coast Guard.

(1) (Reserved)

(b) Secret Service—Positions concerned with the protection of the life and safety of the President and members of his immediate family, or other persons for whom similar protective services are prescribed by law, when filled in accordance with special appointment procedures approved by OPM. Service under this authority may not exceed:

(1) A total of 4 years; or

(2) 120 days following completion of the service required for conversion under Executive Order 11203.

13. Department of Agriculture (Sch. B, 213.3213)

(a) Foreign Agricultural Service—

(1) Positions of a project nature involved in international technical assistance activities. Service under this authority may not exceed 5 years on a single project for any individual unless delayed completion of a project justifies an extension up to but not exceeding 2 years.

(b) General—

(1) Temporary positions of professional Research Scientists, GS-15 or below, in the Agricultural Research Service, Economic Research Service, and the Forest Service, when such positions are established to support the Research Associateship Program and are filled by persons having a doctoral degree in an appropriate field of study for research activities of mutual interest to appointees and the agency. Appointments are limited to proposals approved by the appropriate Administrator. Appointments may be made for initial periods not to exceed 2 years and may be extended for up to 2 additional years. Extensions beyond 4 years, up to a maximum of 2 additional years, may be granted, but only in very rare and unusual circumstances, as determined by the Human Resources Officer for the Research, Education, and Economics Mission Area, or the Human Resources Officer, Forest Service.

(2) Not to exceed 55 Executive Director positions, GM-301-14/15, with the State Rural Development Councils in support of the Presidential Rural Development Initiative.

14. Department of Commerce (Sch. B, 213.3214)

(a) Bureau of the Census—

(1) (Reserved)

(2) Not to exceed 50 Community Services Specialist positions at the equivalent of GS-5 through 12.

(b)-(c) (Reserved)

(d) National Telecommunications and Information Administration—

(1) Not to exceed 10 Telecommunications Policy Analysts, grades GS-11 through 15. Employment under this authority may not exceed 2 years.

15. Department of Labor (Sch. B, 213.3215)

(a) Administrative Review Board—Chair and a maximum of four additional Members.

(b) (Reserved)

(c) Bureau of International Labor Affairs—

(1) Positions in the Office of Foreign Relations, which are paid by outside funding sources under contracts for specific international labor market technical assistance projects. Appointments under this authority may not be extended beyond the expiration date of the project.

17. Department of Education (Sch. B, 213.3217)

(a) Seventy-five positions, not to exceed GS-13, of a professional or analytical nature when filled by persons, other than college faculty members or candidates working toward college degrees, who are participating in mid-career development programs authorized by Federal statute or regulation, or sponsored by private nonprofit organizations, when a period of work experience is a requirement for completion of an organized study program. Employment under this authority shall not exceed 1 year.

(b) Fifty positions, GS-7 through GS-11, concerned with advising on education policies, practices, and procedures under unusual and abnormal conditions. Persons employed under this provision must be bona fide elementary school and high school teachers. Appointments under this authority may be made for a period of not to exceed 1 year, and may, with the prior approval of the Office of Personnel Management, be extended for an additional period of 1 year.

27. Department of Veterans Affairs (Sch. B, 213.3227)

(a) Not to exceed 800 principal investigatory, scientific, professional, and technical positions at grades GS-11 and above in the medical research program.

(b) Not to exceed 25 Criminal Investigator (Undercover) positions, GS-1811, in grades 5 through 12, conducting undercover investigations in the Veterans Health Administration (VA) supervised by the VA, Office of Inspector General. Initial appointments shall be greater than 1 year, but not to exceed 4 years and may be extended indefinitely in 1-year increments.

28. Broadcasting Board of Governors (Sch. B, 213.3228)

(a) International Broadcasting Bureau—

(1) Not to exceed 200 positions at grades GS-15 and below in the Office of Cuba Broadcasting. Appointments may not be made under this authority to administrative, clerical, and technical support positions.

36. U.S. Soldiers' and Airmen's Home (Sch. B, 213.3236)

(a) (Reserved)

(b) Director, Health Care Services; Director, Member Services; Director, Logistics; and Director, Plans and Programs.

40. National Archives and Records Administration (Sch. B, 213.3240)

(a) Executive Director, National Historical Publications and Records Commission.

48. National Aeronautics and Space Administration (Sch. B, 213.3248)

(a) Not to exceed 40 positions of Astronaut Candidates at grades GS-11 through 15. Employment under this authority may not exceed 3 years.

50. Consumer Financial Protection Bureau (Sch. B, 213.3250)

(a) One position of Deputy Director; and one position of Associate Director of the Division of Supervision, Enforcement, and Fair Lending.

55. Social Security Administration (Sch. B, 213.3255)

(a) (Reserved)

74. Smithsonian Institution (Sch. B, 213.3274)

(a) (Reserved)

(b) Freer Gallery of Art—

(1) Not to exceed four Oriental Art Restoration Specialists at grades GS-9 through GS-15.

76. Appalachian Regional Commission (Sch. B, 213.3276)

(a) Two Program Coordinators.

78. Armed Forces Retirement Home (Sch. B, 213.3278)

(a) Naval Home, Gulfport, Mississippi—

(1) One Resource Management Officer position and one Public Works Officer position, GS/GM-15 and below.

82. National Foundation on the Arts and the Humanities (Sch. B, 213.3282)

(a) (Reserved)

(b) National Endowment for the Humanities—

(1) Professional positions at grades GS-11 through GS-15 engaged in the review, evaluation, and administration of grants supporting scholarship, education, and public programs in the humanities, the duties of which require in-depth knowledge of a discipline of the humanities.

91. Office of Personnel Management (Sch. B, 213.3291)

(a) Not to exceed eight positions of Associate Director at the Executive Seminar Centers at grades GS-13 and GS-14. Appointments may be made for any period up to 3 years and may be extended without prior approval for any individual. Not more than half of the authorized faculty positions at any one Executive Seminar Center may be filled under this authority.

(b) Center for Leadership Development—No more than 72 positions of faculty members at grades GS-13 through GS-15. Initial appointments under this authority may be made for any period up to 3 years and may be extended in 1, 2, or 3 year increments.

Schedule C

Agency name | Organization name | Position title | Authorization No. | Effective date
DEPARTMENT OF AGRICULTURE | Agricultural Marketing Service | Special Assistant | DA190094 | 03/26/2019
| Animal and Plant Health Inspection Service | Senior Advisor | DA190083 | 04/04/2019
| Farm Service Agency | Confidential Assistant | DA190157 | 06/28/2019
|  | Special Assistant | DA190085 | 03/25/2019
|  | State Executive Director (3) | DA180230 DA180239 DA190028 | 09/20/2018 09/20/2018 12/20/2018
|  | State Executive Director—California | DA190161 | 06/20/2019
|  | State Executive Director—Washington | DA190105 | 04/24/2019
|  | State Executive Director—Oregon | DA180231 | 10/02/2018
|  | State Executive Director—Idaho | DA190086 | 04/09/2019
| Food and Nutrition Service | Confidential Assistant (2) | DA190046 DA190121 | 02/06/2019 05/02/2019
|  | Senior Policy Advisor | DA190141 | 05/17/2019
|  | Director of Intergovernmental Affairs | DA180214 | 08/20/2018
| Foreign Agricultural Service | Policy Analyst Senior Advisor | DA190109 DA190155 | 05/14/2019 06/18/2019
| Natural Resources Conservation Service | Confidential Assistant Policy Advisor | DA180206 DA190021 | 08/17/2018 12/17/2018
| Office of Communications | Deputy Director Deputy Press Secretary | DA190075 DA190091 | 03/05/2019 03/26/2019
|  | Press Assistant (2) | DA190047 DA180227 | 02/22/2019 08/20/2018
|  | Press Secretary (2) | DA190150 DA180233 | 06/11/2019 09/12/2018
| Office of the Assistant Secretary for Administration | Senior Advisor | DA190087 | 03/25/2019
| Office of the Assistant Secretary for Congressional Relations | Associate Director (2) | DA190061 DA180236 | 03/05/2019 11/26/2018
|  | Chief of Staff | DA180229 | 09/13/2018
|  | Congressional and Policy Advisor (2) | DA190144 DA180250 | 05/23/2019 10/04/2018
|  | Congressional Advisor | DA190030 | 12/11/2018
|  | Legislative Analyst (3) | DA190088 DA190069 | 04/04/2019 04/12/2019
|  |  | DA190134 | 05/03/2019
|  | Policy Advisor | DA180243 | 09/20/2018
|  | Senior Congressional Advisor | DA190040 | 02/05/2019
|  | Staff Assistant | DA180255 | 11/26/2018
| Office of the General Counsel | Advisor (2) | DA190156 DA190011 | 06/18/2019 11/26/2018
| Office of the Secretary | Advance Associate | DA180263 | 11/26/2018
|  | Advance Lead (4) | DA190057 DA180219 | 03/14/2019 08/13/2018
|  |  | DA180232 | 09/17/2018
|  |  | DA190020 | 12/17/2018
|  | Chief of Staff | DA190042 | 03/26/2019
|  | Confidential Assistant (4) | DA180208 DA180254 | 07/27/2018 08/27/2018
|  |  | DA180221 | 09/20/2018
|  |  | DA180178 | 12/20/2018
|  | Deputy Chief of Staff for Outreach | DA180264 | 11/26/2018
|  | Director of Scheduling | DA180244 | 09/14/2018
|  | Policy Advisor | DA190029 | 12/11/2018
|  | Senior Advisor (5) | DA190092 DA190108 | 03/26/2019 04/05/2019
|  |  | DA190146 | 05/24/2019
|  |  | DA190165 | 06/28/2019
|  |  | DA180222 | 09/20/2018
|  | Special Assistant | DA190058 | 02/13/2019
|  | White House Liaison | DA180144 | 07/10/2018
| Office of the Under Secretary for Farm Production and Conservation | Policy Advisor Confidential Assistant | DA190163 DA190013 | 06/28/2019 11/28/2018
| Office of the Under Secretary for Food Safety | Senior Advisor | DA180249 | 10/29/2018
| Office of the Under Secretary for Food, Nutrition and Consumer Services | Confidential Assistant | DA180257 | 10/12/2018
| Office of the Under Secretary for Marketing and Regulatory Programs | Policy Advisor | DA180261 | 10/17/2018
| Office of the Under Secretary for Research, Education, and Economics | Chief of Staff Staff Assistant Policy Advisor | DA190140 DA190142 DA180258 | 05/17/2019 05/23/2019 10/12/2018
| Office of the Under Secretary for Rural Development | Confidential Assistant (5) | DA190114 DA180207 | 04/24/2019 08/02/2018
|  |  | DA180224 | 08/02/2018
|  |  | DA180223 | 08/09/2018
|  |  | DA190037 | 12/20/2018
|  | Senior Advisor | DA190123 | 05/10/2019
| Office of Under Secretary for Natural Resources and Environment | Staff Assistant | DA190041 | 02/06/2019
| Risk Management Agency | Policy Advisor | DA180198 | 07/27/2018
| Rural Business Service | Chief of Staff | DA190124 | 04/23/2019
|  | Confidential Assistant | DA180251 | 09/26/2018
| Rural Housing Service | Chief of Staff | DA190116 | 04/12/2019
|  | Confidential Assistant | DA180209 | 08/02/2018
|  | Congressional Advisor | DA190039 | 12/20/2018
|  | Policy Advisor | DA190080 | 03/25/2019
|  | Staff Assistant | DA180220 | 08/23/2018
|  | State Director—Arizona | DA190147 | 06/13/2019
|  | State Director—Florida | DA190056 | 04/02/2019
|  | State Director—Iowa | DA180195 | 07/03/2018
|  | State Director—New Jersey | DA180116 | 04/08/2019
| Rural Utilities Service | Policy Coordinator | DA190001 | 10/31/2018
APPALACHIAN REGIONAL COMMISSION | Appalachian Regional Commission | Speechwriter | AP190001 | 04/04/2019
DEPARTMENT OF COMMERCE | Office of the Assistant Secretary and Director General for United States and Foreign Commercial Service | Senior Advisor | DC190097 | 05/17/2019
| Office of the Assistant Secretary for Enforcement and Compliance | Special Assistant Senior Advisor | DC190109 DC190009 | 06/25/2019 11/19/2018
| Office of the Assistant Secretary for Industry and Analysis | Director, Office of Industry Engagement | DC190034 | 01/29/2019
|  | Senior Advisor for Industry and Analysis | DC180157 | 07/11/2018
| Office of the Assistant Secretary Legislative and Intergovernmental Affairs | Intergovernmental Affairs Specialist Associate Director for Legislative Affairs | DC180151 DC180188 | 07/03/2018 08/29/2018
| Bureau of Industry and Security | Policy Advisor | DC190050 | 02/22/2019
|  | Senior Advisor | DC190055 | 03/25/2019
|  | Senior Counselor | DC180182 | 08/20/2018
| Bureau of the Census | Senior Advisor | DC190052 | 03/11/2019
| Office of the Director General of the United States and Foreign Commercial Service and Assistant Secretary for Global Markets | Senior Advisor for United States and Foreign Commercial Service Senior Advisor and Director of Outreach | DC190040 DC180163 | 02/13/2019 07/23/2018
|  | Senior Advisor for External Affairs | DC190031 | 12/20/2018
| Office of the International Trade Administration | Director, Office of Legislative Affairs | DC180207 | 10/11/2018
|  | Press Secretary and Speechwriter | DC180206 | 10/04/2018
|  | Senior Advisor (2) | DC180191 | 09/14/2018
|  |  | DC180201 | 09/26/2018
|  | Special Assistant | DC180189 | 09/26/2018
| Minority Business Development Agency | Confidential Assistant Special Advisor for Strategic Initiatives | DC190003 DC190018 | 10/31/2018 11/30/2018
| Office of Advance, Scheduling and Protocol | Advance Assistant Deputy Director of Advance | DC180180 DC180174 | 08/23/2018 09/17/2018
|  | Director of Advance, Scheduling and Protocol (2) | DC190060 DC180202 | 03/13/2019 09/12/2018
|  | Protocol Officer | DC200011 | 05/22/2019
| Office of Business Liaison | Special Advisor (2) | DC180166 | 07/20/2018
|  |  | DC180183 | 08/31/2018
| Office of the Executive Secretariat | Special Assistant | DC190051 | 03/25/2019
|  | Confidential Assistant | DC190101 | 05/23/2019
|  | Deputy Director, Office of Executive Secretariat | DC180190 | 08/31/2018
|  | Associate Director, Office of Executive Secretariat | DC180197 | 09/11/2018
| Office of the General Counsel | Special Advisor (2) | DC190072 DC190088 | 04/12/2019 05/14/2019
| Office of Legislative and Intergovernmental Affairs | Confidential Assistant Congressional and Intergovernmental Affairs Specialist | DC180165 DC190108 | 07/27/2018 06/25/2019
|  | Deputy Director of Legislative Affairs | DC190106 | 06/25/2019
|  | Director of Legislative Affairs | DC180186 | 08/16/2018
| Office of Policy and Strategic Planning | Policy Assistant Deputy Director, Office of Policy and Strategic Planning | DC190036 DC190073 | 02/06/2019 04/11/2019
| Office of Public Affairs | Deputy Director of Public Affairs and Press Secretary | DC190064 | 04/16/2019
|  | Director of Speechwriting | DC180160 | 07/06/2018
|  | Director of Speechwriting and Senior Advisor | DC190114 | 06/25/2019
|  | Press Assistant | DC190008 | 10/31/2018
|  | Special Advisor for Communications | DC180169 | 08/02/2018
|  | Speechwriter and Press Assistant | DC190048 | 02/22/2019
| Office of the Assistant Secretary for Economic Development | Senior Advisor Special Advisor for External Affairs | DC190059 DC190061 | 03/25/2019 04/11/2019
|  | Director of External Affairs | DC190098 | 05/10/2019
|  | Legislative Affairs Specialist | DC190010 | 11/19/2018
| Office of the Assistant Secretary for Export Administration | Special Advisor | DC180175 | 07/27/2018
| Office of the Chief Financial Officer and Assistant Secretary for Administration | Confidential Assistant Chief of Staff for Administration | DC190027 DC190045 | 02/01/2019 03/06/2019
| Office of the Chief of Staff | Special Assistant | DC190056 | 03/13/2019
|  | Confidential Assistant (2) | DC190094 DC180210 | 05/10/2019 10/04/2018
|  | Director, Center for Faith and Opportunity Initiatives | DC190001 | 10/24/2018
| Office of the Deputy Assistant Secretary | Special Assistant | DC190014 | 11/26/2018
| Office of the Deputy Secretary | Special Assistant | DC190012 | 10/31/2018
|  | Senior Advisor | DC190015 | 11/19/2018
| Office of the Director | Director of Strategic Initiatives | DC190067 | 04/25/2019
| Office of the General Counsel (2) | Senior Counsel for Special Projects (2) | DC190076 DC190095 | 05/03/2019 05/10/2019
|  |  | DC190103 | 05/14/2019
|  | Special Advisor (2) | DC190038 | 02/14/2019
|  |  | DC190082 | 05/23/2019
| Office of the Under Secretary | Senior Advisor (3) | DC190112 DC180154 | 06/25/2019 07/03/2018
|  |  | DC180208 | 10/16/2018
|  | Special Assistant | DC180168 | 08/02/2018
| Office of the Under Secretary for Economic Affairs | Special Advisor | DC190023 | 12/13/2018
| Office of the White House Liaison | Deputy Director, Office of the White House Liaison | DC190069 | 03/12/2019
|  | Confidential Assistant | DC190104 | 06/25/2019
|  | Special Assistant | DC180199 | 10/18/2018
| Patent and Trademark Office | Special Assistant | DC190053 | 04/16/2019
|  | Deputy Chief Communications Officer (2) | DC190080 DC190113 | 05/20/2019 06/28/2019
|  | Special Advisor for Communications | DC190021 | 12/17/2018
COMMISSION ON CIVIL RIGHTS | Office of Staff Members | Special Assistant | CC190001 | 06/18/2019
| Office of Commissioners | Special Assistant | CC180002 | 06/25/2019
CONSUMER PRODUCT SAFETY COMMISSION | Office of Commissioners | Director, Office of Legislative Affairs | PS180005 | 08/29/2018
|  | Special Assistant | PS180009 | 09/11/2018
| Office of Communications | Supervisory Public Affairs Specialist (2) | PS190003 PS180008 | 04/03/2019 08/29/2018
COUNCIL ON ENVIRONMENTAL QUALITY | Council on Environmental Quality | Associate Director for Natural Resources | EQ190001 | 04/16/2019
DEPARTMENT OF DEFENSE | Deputy Under Secretary of Defense (Asian and Pacific Security Affairs) | Special Assistant(East Asia) | DD190003 | 11/05/2018
| Office of the Assistant Secretary of Defense (Asian and Pacific Security Affairs) | Special Assistant(East Asia) | DD190004 | 11/05/2018
| Office of the Assistant Secretary of Defense (Legislative Affairs) | Special Assistant (3) | DD190071 DD190120 DD190132 | 04/04/2019 05/17/2019 05/23/2019
|  | Special Assistant (Legislative Affairs) (2) | DD180117 DD190005 | 07/31/2018 11/05/2018
| Office of the Assistant to the Secretary of Defense (Public Affairs) | Special Assistant | DD180109 | 07/19/2018
| Office of the Chief Management Officer | Special Assistant | DD190144 | 06/13/2019
| Office of the Deputy Under Secretary for Policy | Special Assistant (3) | DD190130 DD190076 | 04/23/2019 05/10/2019
|  |  | DD190111 | 06/05/2019
| Office of the Director (Cost Assessment and Program Evaluation) | Special Assistant | DD180131 | 10/04/2018
| Office of the General Counsel | Attorney-Advisor (General) | DD190022 | 12/20/2018
| Office of the Secretary of Defense | Advance Officer | DD190018 | 11/19/2018
|  | Defense Fellow | DD190027 | 01/25/2019
|  | Protocol Officer (2) | DD190118 DD190021 | 05/15/2019 12/20/2018
|  | Special Assistant | DD190119 | 05/14/2019
|  | Speechwriter | DD190123 | 06/03/2019
| Office of the Under Secretary of Defense (Acquisition and Sustainment | Special Assistant | DD190143 | 06/11/2019
| Office of the Under Secretary of Defense (Acquisition, Technology, and Logistics) | Special Assistant (Acquisition and Sustainment) | DD190009 | 11/19/2018
|  | Special Assistant for Engineering and Technology | DD190012 | 11/19/2018
| Office of the Under Secretary of Defense (Intelligence) | Special Assistant for Intelligence Special Assistant | DD180121 DD180130 | 08/30/2018 10/04/2018
| Office of the Under Secretary of Defense (Policy) | Special Assistant (6) | DD190057 DD190060 DD190078 | 02/22/2019 02/22/2019 04/23/2019
|  |  | DD190139 | 06/19/2019
|  |  | DD190140 | 06/20/2019
|  |  | DD180107 | 07/06/2018
| Washington Headquarters Services | Attorney-Advisor (General) | DD190031 | 01/25/2019
|  | Defense Fellow (7) | DD190017 DD190062 | 01/23/2019 03/15/2019
|  |  | DD190074 | 04/04/2019
|  |  | DD190112 | 05/10/2019
|  |  | DD180125 | 09/12/2018
|  |  | DD190002 | 11/15/2018
|  |  | DD190013 | 11/30/2018
|  | Special Assistant | DD190032 | 01/25/2019
DEPARTMENT OF THE AIR FORCE | Office of the Assistant Secretary Air Force, Installations, Environment, and Energy | Special Assistant | DF180032 | 09/06/2018
DEPARTMENT OF THE ARMY | Office of the Assistant Secretary Army (Acquisition, Logistics and Technology) | Special Assistant (Strategy and Acquisition Reform) (2) | DW190022 DW190032 | 03/11/2019 04/05/2019
| Office of the Assistant Secretary Army (Civil Works) | Special Assistant (Civil Works) | DW190042 | 05/23/2019
| Office of the Assistant Secretary Army (Installations, Energy and Environment) | Special Assistant (Energy and Sustainability) | DW180041 | 07/19/2018
| Office of the Deputy Under Secretary of Army | Special Assistant Personal and Confidential Assistant | DW190045 DW180042 | 06/26/2019 07/17/2018
DEPARTMENT OF EDUCATION | Department of Education | Special Assistant (Supervisory) | DB190063 | 02/22/2019
| Office for Civil Rights | Attorney Advisor (2) | DB190069 DB190073 | 03/06/2019 04/04/2019
|  | Confidential Assistant (2) | DB190056 DB180052 | 01/30/2019 07/17/2018
|  | Confidential Assistant for Policy | DB190040 | 01/25/2019
| Office of Career Technical and Adult Education | Confidential Assistant (2) | DB190071 DB180064 | 03/26/2019 09/20/2018
| Office of Communications and Outreach | Confidential Assistant (9) | DB190055 DB190065 DB190064 | 02/06/2019 02/22/2019 03/04/2019
|  |  | DB190086 | 05/02/2019
|  |  | DB190092 | 05/08/2019
|  |  | DB190013 | 11/30/2018
|  |  | DB190028 | 12/12/2018
|  |  | DB190027 | 12/20/2018
|  |  | DB190041 | 12/20/2018
|  | Confidential Assistant (Digital) | DB190087 | 05/08/2019
|  | Director of Outreach | DB190077 | 04/08/2019
|  | Special Assistant (5) | DB190076 DB190085 | 04/05/2019 05/02/2019
|  |  | DB180053 | 07/27/2018
|  |  | DB180056 | 07/31/2018
|  |  | DB190004 | 11/14/2018
| Office of Elementary and Secondary Education | Confidential Assistant (3) | DB190105 DB190037 DB190044 | 06/13/2019 12/12/2018 12/20/2018
|  | Confidential Assistant for Policy | DB190015 | 11/27/2018
|  | Senior Advisor | DB190006 | 10/25/2018
| Office of Legislation and Congressional Affairs | Confidential Assistant (4) | DB190046 DB190061 DB180054 | 01/25/2019 02/13/2019 07/30/2018
|  |  | DB190030 | 12/13/2018
|  | Director, Office of Legislation and Congressional Affairs | DB190049 | 12/21/2018
|  | Special Assistant | DB180062 DB190032 | 08/28/2018 12/11/2018
|  | Special Assistant (Supervisory) | DB180063 | 08/30/2018
| Office of Planning, Evaluation and Policy Development | Confidential Assistant Deputy Director, Office of Educational Technology | DB190008 DB190101 | 10/31/2018 05/30/2019
|  | Special Assistant (3) | DB190060 DB180058 | 04/08/2019 08/09/2018
|  |  | DB180060 | 08/09/2018
| Office of Postsecondary Education | Confidential Assistant | DB180055 | 07/27/2018
|  | Special Assistant (3) | DB180061 DB190005 | 09/27/2018 10/31/2018
|  |  | DB190016 | 12/03/2018
| Office of Special Education and Rehabilitative Services | Confidential Assistant Special Assistant (2) | DB190098 DB190053 DB190036 | 05/20/2019 01/17/2019 12/12/2018
| Office of the Deputy Secretary | Special Assistant | DB190012 | 11/26/2018
|  | Confidential Assistant (2) | DB190018 DB190043 | 12/12/2018 12/20/2018
| Office of the General Counsel | Attorney Advisor (11) | DB190047 DB190068 | 01/25/2019 03/06/2019
|  |  | DB190099 | 05/22/2019
|  |  | DB190107 | 06/19/2019
|  |  | DB180066 | 09/20/2018
|  |  | DB190001 | 10/12/2018
|  |  | DB190009 | 10/31/2018
|  |  | DB190038 | 12/03/2018
|  |  | DB190033 | 12/13/2018
|  |  | DB190031 | 12/17/2018
|  |  | DB190011 | 12/26/2018
| Office of the Secretary | Confidential Assistant (9) | DB190019 DB190042 | 01/25/2019 01/25/2019
|  |  | DB190075 | 03/15/2019
|  |  | DB180072 | 10/12/2018
|  |  | DB190003 | 10/24/2018
|  |  | DB190021 | 12/12/2018
|  |  | DB190024 | 12/13/2018
|  |  | DB190022 | 12/17/2018
|  |  | DB190023 | 12/17/2018
|  | Confidential Assistant for Policy | DB190102 | 06/05/2019
|  | Director, White House Liaison | DB190034 | 12/13/2018
|  | Special Assistant (2) | DB190020 DB190025 | 01/17/2019 12/13/2018
|  | Special Assistant (Supervisory) | DB190062 | 04/08/2019
| Office of the Under Secretary | Confidential Assistant (2) | DB180069 DB190017 | 09/20/2018 12/17/2018
|  | Confidential Assistant (Policy) | DB190088 | 05/08/2019
|  | Executive Director, Center for Faith and Opportunity Initiatives | DB190029 | 12/13/2018
|  | Senior Advisor | DB180057 | 08/02/2018
DEPARTMENT OF ENERGY | Office of the Assistant Secretary for Congressional and Intergovernmental Affairs | Chief of Staff Deputy Assistant Secretary for House Affairs | DE190119 DE190087 | 05/02/2019 05/07/2019
|  | Deputy Assistant Secretary for Senate Affairs (2) | DE190073 DE180148 | 03/22/2019 07/30/2018
|  | Director of Intergovernmental and External Affairs | DE190008 | 11/26/2018
|  | Legislative Affairs Advisor (5) | DE190109 DE180093 | 05/07/2019 07/03/2018
|  |  | DE180116 | 07/11/2018
|  |  | DE180138 | 07/27/2018
|  |  | DE180147 | 10/12/2018
|  | Special Assistant (3) | DE190053 DE190083 | 02/04/2019 04/24/2019
|  |  | DE180144 | 07/10/2018
| Office of the Assistant Secretary for Electricity Delivery and Energy Reliability | Senior Advisor (2) Special Assistant (2) | DE190085 DE190135 DE190134 DE180137 | 04/08/2019 06/25/2019 06/28/2019 08/29/2018
| Office of the Assistant Secretary for Energy Efficiency and Renewable Energy | Senior Advisor (2) Chief of Staff | DE190035 DE180095 DE180136 | 01/25/2019 07/03/2018 07/20/2018
| Office of the Assistant Secretary for Environmental Management | Senior Advisor | DE180132 | 07/27/2018
| Office of the Assistant Secretary for Fossil Energy | Senior Advisor for Regional Economic Development | DE180098 | 09/12/2018
| Office of the Assistant Secretary for International Affairs | Chief of Staff Director for the Office of Global Energy Security | DE190019 DE190166 | 11/26/2018 06/20/2019
|  | Senior Advisor | DE180134 | 08/09/2018
|  | Special Advisor | DE180133 | 08/02/2018
|  | Special Assistant | DE190041 | 02/01/2019
| Office of the Assistant Secretary for Nuclear Energy | Special Assistant | DE190090 | 04/23/2019
| Office of National Nuclear Security Administration | Director of Congressional Affairs Special Advisor | DE190054 DE190131 | 02/13/2019 06/25/2019
|  | Director of Congressional Affairs | DE180110 | 07/03/2018
| Office of Cybersecurity, Energy Security and Emergency Response | Chief of Staff Special Advisor | DE190037 DE190137 | 01/25/2019 06/26/2019
|  | Special Assistant (3) | DE190062 DE190076 | 02/27/2019 03/19/2019
|  |  | DE190112 | 05/03/2019
| Office of Economic Impact and Diversity | Senior Advisor on Minority Business | DE180140 | 07/30/2018
|  | Senior Advisor on Minority Education | DE180146 | 12/21/2018
| Office of the General Counsel | Attorney Advisor | DE180135 | 08/17/2018
|  | Attorney Advisor (General) | DE180114 | 07/02/2018
|  | Deputy Chief of Staff | DE190122 | 05/10/2019
|  | Senior Oversight Advisor | DE190078 | 04/04/2019
|  | Special Assistant | DE190059 | 02/28/2019
| Office of Management | Deputy Staff Secretary | DE190067 | 03/20/2019
|  | Senior Advisor | DE190129 | 06/06/2019
|  | Special Advisor (2) | DE190126 DE180126 | 06/20/2019 07/20/2018
|  | Special Assistant | DE190082 | 04/24/2019
| Office of Policy | Senior Advisor | DE190058 | 03/05/2019
|  | Principal Deputy Director | DE190118 | 04/25/2019
|  | Special Assistant | DE190125 | 06/05/2019
| Office of Public Affairs | Deputy Creative Director | DE190069 | 04/05/2019
|  | Digital Director | DE190071 | 03/22/2019
|  | Press Secretary | DE180131 | 07/19/2018
|  | Special Advisor | DE190132 | 06/25/2019
|  | Special Assistant | DE180104 | 07/27/2018
|  | Writer-Editor (Chief Speechwriter) | DE190140 | 06/26/2019
|  | Writer-Editor (Speechwriter) | DE190034 | 01/30/2019
| Office of Scheduling and Advance | Senior Advisor for Strategic Planning | DE190036 | 01/25/2019
|  | Scheduling Coordinator (2) | DE180127 DE190029 | 08/13/2018 12/20/2018
| Office of Science | Chief of Staff | DE190144 | 06/26/2019
|  | Senior Advisor (3) | DE190084 DE180099 | 04/08/2019 07/13/2018
|  |  | DE180129 | 07/27/2018
| Office of Small and Disadvantaged Business Utilization | Senior Advisor | DE190088 | 05/03/2019
| Office of Technology Transition | Senior Advisor | DE190060 | 02/28/2019
|  | Director and Chief Commercialization Officer | DE180150 | 08/13/2018
| Office of the Chief Financial Officer | Chief of Staff (2) | DE190065 DE180154 | 04/04/2019 08/28/2018
| Office of the Chief Information Officer | Special Advisor | DE180128 | 07/24/2018
| Office of the Deputy Secretary | Special Advisor | DE190052 | 02/14/2019
|  | Nuclear Engineer (Senior Advisor for Nuclear Policy) | DE190061 | 03/15/2019
| Office of the Secretary | Special Assistant (3) | DE190057 DE190113 | 02/28/2019 05/02/2019
|  |  | DE180143 | 08/23/2018
|  | White House Liaison (2) | DE190081 DE180141 | 04/08/2019 07/24/2018
| Office of the Under Secretary of Energy | Senior Advisor (2) | DE190033 DE180145 | 01/25/2019 08/02/2018
|  | Special Assistant (2) | DE190089 DE180103 | 04/23/2019 07/03/2018
ENVIRONMENTAL PROTECTION AGENCY | Environmental Protection Agency Office of Mission Support | Special Assistant Chief Sustainability Officer | EP190066 EP190058 | 04/09/2019 04/04/2019
|  | Associate Deputy Assistant Administrator for the Office of Mission Support | EP190067 | 04/29/2019
| Office of Public Affairs | Deputy Associate Administrator for Regional Affairs | EP190022 | 02/04/2019
|  | Public Affairs Specialist (2) | EP190019 EP190026 | 01/30/2019 01/30/2019
|  | Special Advisor | EP190102 | 06/19/2019
|  | Writer (Speeches) | EP190068 | 05/15/2019
| Office of Public Engagement and Environmental Education | Special Advisor for Public Engagement | EP190055 | 04/08/2019
| Office of the Administrator | Advance Associate | EP190074 | 04/23/2019
|  | Deputy White House Liaison | EP180096 | 10/31/2018
|  | Director of Advance | EP180081 | 08/09/2018
|  | Senior Advisor | EP190023 | 01/30/2019
|  | Senior Advisor for Health and Human Safety | EP190016 | 02/26/2019
|  | Senior Advisor for Oil and Gas, Regional Management and State Affairs | EP190057 | 04/23/2019
|  | Senior Advisor for Strategic Initiatives | EP190005 | 11/26/2018
|  | Special Advisor | EP190076 | 05/23/2019
|  | White House Liaison (2) | EP190045 EP180072 | 03/28/2019 07/02/2018
| Office of the Assistant Administrator for Air and Radiation | Policy Advisor | EP180095 | 09/20/2018
| Office of the Assistant Administrator for Chemical Safety and Pollution Prevention | Environmental Engineer | EP180090 | 08/23/2018
| Office of the Assistant Administrator for International and Tribal Affairs | Director, American Indian Environmental Office Senior Advisor for the Office of International and Tribal Affairs | EP190082 EP180091 | 06/05/2019 08/30/2018
| Office of the Assistant Administrator for Land and Emergency Management | Attorney Advisor (General) | EP190014 | 12/20/2018
| Office of the Assistant Administrator for Research and Development | Confidential Assistant | EP180082 | 07/27/2018
| Office of the Assistant Administrator for Water | Special Assistant Attorney Advisor (General) | EP190009 EP190015 | 01/30/2019 12/13/2018
| Office of the Associate Administrator for Congressional and Intergovernmental Relations | Attorney Advisor (General) Deputy Associate Administrator for the Office of Congressional and Intergovernmental Relations | EP190034 EP190070 | 02/22/2019 04/16/2019
|  | Director for Oversight | EP190004 | 12/04/2018
|  | Director of Intergovernmental Affairs | EP190012 | 11/27/2018
|  | House Relations Specialist | EP190061 | 03/29/2019
|  | Senate Affairs Specialist | EP190049 | 03/08/2019
|  | Special Advisor for House Relations | EP190050 | 04/04/2019
|  | Special Advisor for Intergovernmental Relations | EP190079 | 05/17/2019
|  | Special Advisor for the Office of Congressional Affairs | EP180079 | 12/20/2018
|  | Special Advisor for the Office of Congressional and Intergovernmental Affairs | EP190042 | 02/26/2019
|  | Special Assistant (2) | EP190062 EP190064 | 04/08/2019 04/09/2019
| Office of the Associate Administrator for Policy | Special Advisor for Policy and Economics | EP190051 | 03/25/2019
|  | Policy Advisor (2) | EP190071 EP180078 | 05/10/2019 07/24/2018
| Office of the Chief Financial Officer | Associate Chief Financial Officer for Policy | EP190033 | 02/22/2019
|  | Senior Advisor for Financial Management | EP180099 | 10/22/2018
| Office of the Executive Secretariat | Attorney Advisor (General) | EP190056 | 03/22/2019
|  | Special Advisor (2) | EP180089 EP180088 | 08/23/2018 08/28/2018
| Office of the General Counsel | Attorney Advisor (General) (3) | EP190035 EP190038 EP180080 | 02/22/2019 02/28/2019 07/27/2018
|  | Special Assistant for the Office of General Counsel | EP190059 | 03/19/2019
| Region II—New York, New York | Senior Advisor | EP190040 | 02/28/2019
| Region V—Chicago, Illinois | Senior Advisor for Water | EP190025 | 02/11/2019
| Region VI—Dallas, Texas | Chief of Staff | EP180093 | 09/20/2018
| Region VII—Lenexa, Kansas | Renewable Fuels Advisor | EP190013 | 12/11/2018
EXPORT-IMPORT BANK | Office of Communications | Press Secretary | EB190010 | 06/17/2019
| Office of External Engagement | Senior Vice President for External Engagement | EB190011 | 06/18/2019
| Office of the Chairman | Director of Scheduling | EB190008 | 06/05/2019
| Office of the Chief of Staff | Executive Secretary (2) | EB190007 EB180009 | 06/05/2019 09/12/2018
FEDERAL DEPOSIT INSURANCE CORPORATION | Federal Deposit Insurance Corporation | Chief of Staff | FD180003 | 07/16/2018
FEDERAL ENERGY REGULATORY COMMISSION | Office of Commissioner McNamee Office of the Chairman | Senior Technical Advisor Confidential Assistant | DR190003 DR190007 | 02/22/2019 02/13/2019
|  | Senior Public Affairs Specialist | DR190004 | 02/28/2019
|  | Senior Advisor for Markets and Reliability | DR180005 | 10/29/2018
|  | Policy Advisor | DR190001 | 11/06/2018
| Office of the Commissioner | Executive Assistant | DR190002 | 10/31/2018
FEDERAL HOUSING FINANCE AGENCY | Office of Director | Director of External Relations Director of Legislative Affairs | HA190001 HA190004 | 04/23/2019 05/15/2019
FEDERAL MINE SAFETY AND HEALTH REVIEW COMMISSION | Federal Mine Safety and Health Review Commission | Confidential Assistant (2) | FR190002 FR180002 | 02/26/2019 10/01/2018
GENERAL SERVICES ADMINISTRATION | National Capital Region Northwest/Arctic Region | Special Assistant Senior Advisor | GS190027 GS190015 | 04/17/2019 02/06/2019
| Office of Congressional and Intergovernmental Affairs | Congressional Policy Analyst (2) Policy Advisor | GS190014 GS190008 GS180047 | 01/30/2019 11/26/2018 10/29/2018
| Office of the General Counsel | Senior Counsel | GS190034 | 06/25/2019
| Office of Governmentwide Policy | Senior Advisor for Governmentwide Policy | GS190012 | 12/20/2018
| Office of Strategic Communication | Speechwriter | GS190028 | 05/15/2019
|  | Senior Communications Advisor | GS180037 | 07/10/2018
| Office of the Administrator | Confidential Assistant | GS190019 | 04/04/2019
|  | Staff Assistant | GS190029 | 05/30/2019
|  | Special Assistant | GS190007 | 11/19/2018
DEPARTMENT OF HEALTH AND HUMAN SERVICES | Office of the Administration for Children and Families | Advisor Chief of Staff (2) | DH190091 DH190075 DH180218 | 03/26/2019 02/27/2019 07/19/2018
|  | Communications Director | DH190203 | 06/25/2019
|  | Director of Legislative Affairs | DH190057 | 01/28/2019
|  | Senior Advisor | DH190105 | 04/12/2019
|  | Senior Advisor for Communications | DH190070 | 02/11/2019
| Office of the Administration for Community Living | Advisor | DH190059 | 02/12/2019
| Agency for Healthcare Research and Quality | Advisor | DH190094 | 04/12/2019
| Centers for Disease Control and Prevention | Director of Communications | DH190080 | 03/14/2019
| Centers for Medicare and Medicaid Services | Senior Advisor for External Affairs Senior Advisor (2) | DH190172 DH190086 DH180180 | 06/05/2019 06/07/2019 07/11/2018
|  | Deputy Director of Communications | DH190021 | 11/16/2018
| Office of Food and Drug Administration | Director of Communications Advisor | DH190063 DH190116 | 02/22/2019 05/06/2019
|  | Counselor | DH190101 | 06/07/2019
| Office of Health Resources and Services Administration | Senior Director, Communications | DH190155 | 05/21/2019
| Office of Global Affairs | Chief of Staff | DH190044 | 01/17/2019
|  | Senior Advisor | DH190043 | 01/25/2019
|  | Advisor | DH180239 | 09/20/2018
| Office of Intergovernmental and External Affairs | Director of Intergovernmental Affairs | DH190088 | 03/26/2019
|  | Regional Director, Dallas, Texas, Region VI | DH190022 | 11/21/2018
|  | Regional Director, New York, New York, Region II | DH180172 | 12/20/2018
|  | Senior Advisor (2) | DH190025 DH180242 | 02/27/2019 09/07/2018
|  | Senior Advisor for External Affairs | DH190011 | 10/31/2018
|  | Special Assistant | DH190187 | 06/26/2019
| Office of Refugee Resettlement/Office of the Director | Policy Advisor (2) | DH190096 DH180193 | 06/07/2019 07/09/2018
|  | Chief of Staff | DH180196 | 07/09/2018
| Office of the Administrator | Senior Advisor (Substance Abuse) | DH190087 | 03/13/2019
| Office of the Assistant Secretary for Financial Resources | Deputy Assistant Secretary, Congressional Relations | DH190090 | 04/12/2019
|  | Director—Appropriations Liaison | DH190111 | 06/07/2019
|  | Director of Congressional Relations | DH190037 | 01/29/2019
|  | Policy Advisor | DH190073 | 03/01/2019
|  | Special Assistant | DH190069 | 04/04/2019
| Office of the Assistant Secretary for Health | Advisor (2) | DH190117 DH180210 | 05/22/2019 08/16/2018
|  | Chief of Staff | DH180212 | 07/31/2018
|  | Deputy Chief of Staff | DH180249 | 10/12/2018
|  | Director of Media Affairs | DH190097 | 03/26/2019
|  | Senior Advisor for Communications | DH180238 | 08/30/2018
| Office of the Assistant Secretary for Legislation | Advisor Deputy Assistant Secretary for Legislation for Discretionary (Public Health and Science) | DH190035 DH190030 | 01/25/2019 12/17/2018
|  | Deputy Director of Oversight and Investigations | DH180191 | 07/19/2018
|  | Director of Congressional Liaison | DH190034 | 01/29/2019
|  | Director of Oversight and Investigations | DH180189 | 07/02/2018
|  | Policy Advisor | DH180220 | 10/31/2018
|  | Senior Deputy Director of Oversight and Investigations | DH180253 | 10/15/2018
|  | Special Assistant (2) | DH190184 DH190185 | 06/25/2019 06/25/2019
| Office of the Assistant Secretary for Preparedness and Response | Senior Policy Advisor | DH190054 | 02/28/2019
| Office of the Assistant Secretary for Public Affairs | Advisor—Strategic Communications | DH190068 | 02/15/2019
|  | Assistant Speechwriter | DH190050 | 01/25/2019
|  | Communications Assistant | DH180235 | 09/13/2018
|  | Director of Communication Strategy and Campaigns | DH180236 | 10/23/2018
|  | Press Assistant | DH180157 | 07/13/2018
|  | Senior Advisor and National Spokesperson | DH190198 | 06/25/2019
|  | Special Assistant | DH180250 | 09/26/2018
| Office of the Deputy Secretary | Assistant | DH190067 | 02/11/2019
| Office of the General Counsel | Assistant | DH190085 | 03/13/2019
|  | Associate Deputy General Counsel | DH190175 | 06/06/2019
|  | Assistant Deputy General Counsel | DH190178 | 06/13/2019
| Office of the National Coordinator for Health Information Technology | Senior Advisor for Health Information Technology | DH190002 | 11/19/2018
| Office of the Secretary | Advance Representative | DH190029 | 01/25/2019
|  | Advisor (4) | DH190053 DH190089 | 01/25/2019 04/05/2019
|  |  | DH180194 | 08/02/2018
|  |  | DH190026 | 12/11/2018
|  | Advisor for Value-Based Reform | DH180246 | 10/04/2018
|  | Briefing Book Coordinator and Policy Advisor | DH190098 | 03/25/2019
|  | Deputy Scheduler | DH190110 | 04/17/2019
|  | Director of Drug Pricing Reform | DH190205 | 06/25/2019
|  | Director of Scheduling | DH190113 | 04/30/2019
|  | Senior Advisor | DH180228 | 09/13/2018
|  | Senior Policy Advisor | DH180214 | 07/20/2018
|  | Special Advisor | DH190118 | 06/05/2019
|  | Special Assistant (5) | DH180223 DH180222 | 08/07/2018 08/09/2018
|  |  | DH190024 | 11/19/2018
|  |  | DH190062 | 01/29/2019
|  |  | DH190164 | 06/11/2019
|  | White House Liaison for Political Personnel, Boards and Commissions (2) | DH190200 DH180198 | 06/21/2019 07/02/2018
DEPARTMENT OF HOMELAND SECURITY | Office of Cybersecurity and Infrastructure Security Agency | Policy Advisor (2) | DM190115 DM180280 | 03/14/2019 08/23/2018
|  | Special Assistant | DM190119 | 03/26/2019
|  | Strategic Action Officer | DM190127 | 03/26/2019
| Federal Emergency Management Agency | Special Assistant Director, Legislative Affairs | DM190055 DM180242 | 01/29/2019 07/13/2018
|  | Press Secretary | DM190010 | 10/29/2018
| Office of Assistant Secretary for Legislative Affairs | Senior Advisor Legislative Advisor | DM190074 DM190084 | 02/12/2019 03/11/2019
|  | Executive Secretariat and Administrative Officer | DM190138 | 04/17/2019
|  | Director for Strategic Legislative Communications and Engagement | DM180262 | 08/17/2018
| Office of Countering Weapons of Mass Destruction | Advisor Senior Advisor | DM190136 DM190135 | 04/04/2019 04/05/2019
|  | Special Assistant (3) | DM180285 DM180284 | 05/23/2019 09/06/2018
|  |  | DM190239 | 06/28/2019
| Office of Partnership and Engagement | Associate Director, Office of Partnership and Engagement | DM180295 | 09/26/2018
|  | Engagement Manger | DM180293 | 09/26/2018
|  | Special Assistant (3) | DM190201 DM190011 | 05/10/2019 10/23/2018
|  |  | DM190007 | 10/29/2018
| Office of the Assistant Secretary for Policy | Advisor | DM180294 | 10/09/2018
|  | Advisor for Immigration Policy | DM190005 | 10/22/2018
|  | Confidential Assistant for Border, Immigration and Trade Policy (2) | DM190045 DM190234 | 12/20/2018 06/28/2019
|  | Senior Policy Advisor | DM190199 | 05/22/2019
|  | Special Assistant | DM190096 | 03/07/2019
| Office of the Assistant Secretary for Public Affairs | Assistant Press Secretary (3) | DM190194 DM190202 DM190012 | 05/10/2019 05/10/2019 11/05/2018
|  | Deputy Press Secretary | DM190125 | 03/26/2019
|  | Deputy Speechwriter | DM190216 | 05/30/2019
|  | Director of Strategic Communications | DM180296 | 09/18/2018
|  | Press Assistant | DM190021 | 11/20/2018
|  | Speechwriter | DM190016 | 11/06/2018
|  | Strategic Communications Advisor | DM190206 | 05/10/2019
| Office of the Chief of Staff | Advance Representative | DM190230 | 06/13/2019
|  | Briefing Book Coordinator | DM180238 | 08/22/2018
|  | Confidential Assistant (2) | DM180277 DM180307 | 09/05/2018 09/27/2018
|  | Director of Advance and Scheduling and Chief of Protocol | DM190141 | 05/30/2019
|  | Scheduler | DM190191 | 05/07/2019
|  | Special Assistant (2) | DM190210 DM190227 | 05/20/2019 06/10/2019
| Office of the Executive Secretariat | Briefing Book Coordinator (2) | DM190027 DM190143 | 01/19/2019 04/10/2019
|  | Advisor | DM180292 | 09/18/2018
| Office of the General Counsel | Special Assistant | DM180260 | 07/31/2018
|  | Oversight Counsel | DM190046 | 12/11/2018
| Office of the Secretary | Advance Representative | DM180248 | 07/19/2018
|  | Confidential Assistant | DM180286 | 09/06/2018
|  | Special Assistant | DM180291 | 09/20/2018
|  | White House Liaison | DM190019 | 11/19/2018
| Privacy Officer | Senior Advisor, Chief Privacy Officer and Chief FOIA Officer | DM180239 | 07/10/2018
| Office of the United States Citizenship and Immigration Services | Advisor Senior Advisor | DM190091 DM190236 | 03/11/2019 06/28/2019
|  | Advisor | DM180309 | 10/04/2018
| Office of the United States Customs and Border Protection | Oversight Counsel | DM190058 | 12/20/2018
| Office of the United States Immigration and Customs Enforcement | Communications Coordinator | DM190098 | 03/13/2019
DEPARTMENT OF HOUSING AND URBAN DEVELOPMENT | Office of Community Planning and Development | Senior Advisor (2) | DU190043 DU190071 | 03/14/2019 05/17/2019
| Office of Congressional and Intergovernmental Relations | Senior Advisor (2) | DU190018 DU190053 | 01/30/2019 04/04/2019
| Office of Fair Housing and Equal Opportunity | Senior Advisor | DU190023 | 02/06/2019
| Office of Field Policy and Management | Advisor Regional Administrator (2) | DU190056 DU190028 DU190061 | 04/11/2019 02/06/2019 04/17/2019
|  | Special Assistant (3) | DU190024 DU190009 | 02/06/2019 10/31/2018
|  |  | DU190014 | 11/30/2018
| Office of Housing | Deputy Assistant Secretary for Operations | DU190021 | 12/20/2018
| Office of Policy Development and Research | Special Policy Advisor | DU190038 | 02/26/2019
| Office of Public Affairs | Digital Strategy Specialist | DU180066 | 07/30/2018
|  | Deputy Assistant Secretary for Public Affairs | DU180094 | 08/20/2018
|  | Deputy Director of Speechwriting | DU190008 | 10/31/2018
|  | Special Assistant | DU190011 | 11/19/2018
| Office of Public and Indian Housing | Policy Advisor | DU190054 | 04/05/2019
|  | Special Assistant | DU190060 | 04/24/2019
|  | Senior Advisor for Single Family Housing | DU180087 | 07/24/2018
| Office of the Administration | Advance Coordinator (2) | DU190062 DU190020 | 04/17/2019 12/20/2018
|  | Briefing Book Coordinator (2) | DU190083 DU180084 | 06/26/2019 07/12/2018
|  | Director of Scheduling | DU190067 | 05/23/2019
|  | Scheduling and Advance Coordinator | DU180102 | 08/23/2018
|  | Special Assistant (3) | DU180103 DU180090 | 08/30/2018 08/09/2018
|  |  | DU180106 | 09/20/2018
| Office of the Deputy Secretary | Special Assistant (2) | DU180091 DU180097 | 08/02/2018 08/17/2018
| Office of the General Counsel | Paralegal Specialist (2) | DU190036 DU190013 | 02/22/2019 11/30/2018
|  | Senior Counsel (4) | DU190031 DU190035 | 02/11/2019 02/22/2019
|  |  | DU190039 | 03/01/2019
|  |  | DU190072 | 05/23/2019
| Office of the Secretary | Deputy Chief of Staff | DU190048 | 03/22/2019
|  | Executive Assistant | DU190069 | 05/07/2019
|  | Special Assistant (2) | DU190051 DU190050 | 03/25/2019 04/25/2019
|  | Special Policy Assistant | DU190037 | 02/26/2019
DEPARTMENT OF THE INTERIOR | Office of the Assistant Secretary—Fish and Wildlife and Parks | Counselor-Fish Wildlife and Parks | DI190052 | 04/24/2019
| Office of the Assistant Secretary—Indian Affairs | Special Assistant | DI190005 | 12/13/2018
| Office of the Assistant Secretary—Land and Minerals Management | Advisor | DI190021 | 02/13/2019
| Office of the Assistant Secretary—Policy, Management and Budget | Special Assistant | DI190041 | 04/04/2019
| Office of the Assistant Secretary—Water and Science | Senior Advisor (2) | DI190016 DI190047 | 02/26/2019 04/17/2019
|  | Senior Advisor for Water and Science | DI190036 | 03/25/2019
| Bureau of Land Management | Senior Advisor | DI190051 | 05/02/2019
| Bureau of Ocean Energy Management | Senior Advisor—Bureau of Ocean Energy Management | DI190038 | 04/17/2019
| Bureau of Reclamation | Senior Advisor | DI190057 | 05/14/2019
| Bureau of Safety and Environmental Enforcement | Senior Advisor—Bureau of Environmental Enforcement | DI190037 | 03/25/2019
| National Park Service | Special Assistant | DI190043 | 03/25/2019
|  | Assistant Director for Congressional Relations | DI190035 | 04/16/2019
| Office of Congressional and Legislative Affairs | Special Assistant—Congressional and Legislative Affairs | DI190048 | 04/23/2019
|  | Senior Advisor | DI180105 | 09/26/2018
| Office of Surface Mining | Senior Advisor | DI190060 | 06/05/2019
| Office of the Solicitor | Counselor | DI190009 | 12/17/2018
| Secretary's Immediate Office | Advance Representative | DI180106 | 09/26/2018
|  | Advisor | DI190039 | 03/25/2019
|  | Assistant | DI180112 | 11/19/2018
|  | Deputy Director Intergovernmental and External Affairs | DI190046 | 03/26/2019
|  | Deputy Director, Communications | DI190029 | 03/26/2019
|  | Deputy Press Secretary | DI190045 | 05/02/2019
|  | Deputy White House Liaison | DI190072 | 06/18/2019
|  | Press Secretary | DI180110 | 11/19/2018
|  | Press Secretary and Senior Advisor | DI190022 | 03/11/2019
|  | Principal Deputy Director Intergovernmental and External Affairs | DI190044 | 03/26/2019
|  | Senior Advisor | DI180072 | 07/19/2018
|  | Special Assistant (2) | DI190040 DI180104 | 03/25/2019 09/26/2018
|  | Writer | DI190071 | 06/19/2019
| Office of the United States Fish and Wildlife Service | Advisor | DI180080 | 09/20/2018
DEPARTMENT OF JUSTICE | Office of Antitrust Division | Chief of Staff and Senior Counsel | DJ190007 | 01/30/2019
| Office of Civil Division | Senior Counsel (2) | DJ190044 DJ190055 | 03/26/2019 04/11/2019
| Office of Civil Rights Division | Senior Counsel | DJ190204 | 04/03/2019
|  | Chief of Staff and Counsel | DJ190041 | 04/11/2019
|  | Special Assistant | DJ190084 | 06/18/2019
|  | Counsel | DJ180108 | 08/17/2018
| Department of Justice | Chief of Staff and Counsel | DJ190080 | 04/24/2019
| Executive Office for United States Attorneys | Secretary (5) | DJ190016 DJ190010 | 02/27/2019 03/01/2019
|  |  | DJ190012 | 03/01/2019
|  |  | DJ190011 | 03/04/2019
|  |  | DJ190082 | 04/17/2019
| Office of Justice Programs | Policy Advisor | DJ190063 | 05/03/2019
|  | Senior Advisor | DJ180136 | 11/15/2018
| Office of Legal Policy | Attorney Advisor | DJ190057 | 04/26/2019
|  | Confidential Assistant | DJ180153 | 11/26/2018
|  | Counsel (3) | DJ190029 DJ190090 | 02/11/2019 06/13/2019
|  |  | DJ180111 | 07/16/2018
|  | Intergovernmental Liaison Specialist | DJ180113 | 08/02/2018
|  | Legislative Advisor | DJ190048 | 04/11/2019
|  | Senior Counsel (3) | DJ190081 DJ180106 | 05/22/2019 07/10/2018
|  |  | DJ190046 | 03/20/2019
| Office of Public Affairs | Chief Speechwriter | DJ180112 | 07/11/2018
|  | Chief Speechwriter and Media Affairs Specialist | DJ190024 | 12/11/2018
|  | Deputy Speechwriter and Media Affairs Specialist | DJ180110 | 07/16/2018
|  | Lead Media Affairs Coordinator | DJ180148 | 11/05/2018
|  | Media Affairs Coordinator | DJ180135 | 09/14/2018
|  | Media Affairs Specialist | DJ190026 | 02/13/2019
|  | Press Assistant (2) | DJ180128 DJ180150 | 09/20/2018 10/22/2018
|  | Principal Deputy Director | DJ180151 | 09/28/2018
|  | Public Affairs Specialist | DJ190034 | 03/14/2019
| Office of the Associate Attorney General | Senior Counsel | DJ180139 | 10/17/2018
| Office of the Attorney General | Special Assistant | DJ190066 | 03/26/2019
|  | Director of Advance | DJ180104 | 07/02/2018
|  | Confidential Assistant | DJ180114 | 07/13/2018
| Office on Violence Against Women | Deputy Director for Policy | DJ200016 | 06/07/2019
|  | Special Assistant | DJ180082 | 07/02/2018
DEPARTMENT OF LABOR | Bureau of International Labor Affairs | Chief of Staff Policy Advisor | DL190007 DL180127 | 01/25/2019 12/21/2018
| Office of Employee Benefits Security Administration | Chief of Staff Deputy Chief of Staff | DL190021 DL190110 | 02/12/2019 06/25/2019
|  | Policy Advisor | DL190030 | 01/25/2019
|  | Senior Counsel | DL190104 | 06/25/2019
|  | Senior Policy Advisor (3) | DL190025 DL190046 | 01/25/2019 03/29/2019
|  |  | DL190074 | 06/05/2019
|  | Special Assistant (2) | DL190064 DL190063 | 05/15/2019 05/06/2019
|  | Special Assistant (Events and Operations) | DL190062 | 05/02/2019
| Office of Mine Safety and Health Administration | Senior Policy Advisor | DL190082 | 06/10/2019
| Occupational Safety and Health Administration | Chief of Staff | DL190018 | 01/25/2019
| Office of Congressional and Intergovernmental Affairs | Case Officer (2) | DL190065 DL190094 | 05/03/2019 06/10/2019
|  | Intergovernmental Officer | DL190096 | 06/19/2019
|  | Legislative Officer | DL190083 | 06/18/2019
|  | Senior Legislative Officer (3) | DL190027 | 01/25/2019
|  |  | DL190032 DL190026 | 01/25/2019 02/06/2019
| Office of Disability Employment Policy | Chief of Staff Special Assistant | DL190023 DL190034 | 01/17/2019 01/17/2019
| Office of Federal Contract Compliance Programs | Deputy Director, Office of Federal Contract Compliance Programs | DL180114 | 07/19/2018
| Office of Labor-Management Standards | Special Assistant | DL190054 | 05/02/2019
| Office of Public Affairs | Chief of Staff | DL190069 | 05/23/2019
|  | Deputy Communications Director | DL180108 | 07/11/2018
|  | Deputy Director, Office of Public Liaison | DL190029 | 01/25/2019
|  | Press Assistant | DL190056 | 05/02/2019
|  | Senior Advisor | DL180115 | 08/09/2018
|  | Special Assistant | DL180123 | 08/23/2018
|  | Speechwriter | DL190004 | 10/29/2018
| Office of the Assistant Secretary for Policy | Chief of Staff and Senior Counsel Counsel and Policy Advisor (2) | DL180120 DL190017 DL180126 | 08/02/2018 02/13/2019 08/30/2018
|  | Policy Advisor | DL190047 | 04/09/2019
|  | Senior Counsel and Policy Advisor | DL190118 | 06/25/2019
|  | Senior Counsel and Policy Advisor | DL180130 | 10/04/2018
|  | Senior Policy Advisor | DL190044 | 03/18/2019
|  | Special Assistant | DL190058 | 04/24/2019
| Office of the Chief Financial Officer | Chief of Staff | DL190048 | 03/26/2019
| Office of the Deputy Secretary | Director of Operations | DL190059 | 05/14/2019
|  | Senior Counselor | DL190037 | 05/22/2019
|  | Special Assistant and Policy Advisor | DL190117 | 06/25/2019
| Office of the Secretary | Advance Lead | DL190045 | 03/13/2019
|  | Advance Representative | DL190057 | 05/14/2019
|  | Deputy Chief of Staff | DL190070 | 05/20/2019
|  | Director of Scheduling and Operations | DL190060 | 05/14/2019
|  | Senior Advisor | DL190040 | 03/25/2019
|  | Special Assistant | DL190119 | 06/28/2019
|  | Special Assistant and Policy Advisor | DL190113 | 06/25/2019
| Office of the Solicitor | Counsel (3) | DL190052 DL180122 | 04/12/2019 08/28/2018
|  |  | DL190001 | 10/29/2018
| Office of Workers Compensation Programs | Chief of Staff (2) | DL190014 DL190076 | 02/06/2019 06/06/2019
| Office of Wage and Hour Division | Chief of Staff | DL180075 | 07/11/2018
|  | Policy Advisor | DL180110 | 07/11/2018
|  | Senior Policy Advisor (4) | DL190031 DL190020 | 01/25/2019 01/28/2019
|  |  | DL190075 | 06/07/2019
|  |  | DL190095 | 06/13/2019
| Office of Women's Bureau | Deputy Director Women's Bureau | DL190011 | 01/29/2019
MERIT SYSTEMS PROTECTION BOARD | Office of the General Counsel | Confidential Assistant Special Assistant | MP190004 MP190005 | 02/28/2019 02/28/2019
NATIONAL AERONAUTICS AND SPACE ADMINISTRATION | Office of Communications | Speechwriter Deputy Press Secretary | NN190032 NN180042 | 06/05/2019 08/27/2018
| Office of Legislative and Intergovernmental Affairs | Supervisory Legislative Affairs Specialist | NN180031 | 09/12/2018
|  | Legislative Affairs Specialist | NN190002 | 11/15/2018
| Office of the Administrator | Video Production Advisor | NN190021 | 04/15/2019
| Office of the Deputy Administrator | Special Assistant | NN190015 | 02/06/2019
NATIONAL ENDOWMENT FOR THE ARTS | National Endowment for the Arts | Confidential Assistant Director of Congressional Affairs | NA190008 NA190010 | 06/13/2019 06/20/2019
|  | Director of Federal Affairs | NA180004 | 07/30/2018
NATIONAL ENDOWMENT FOR THE HUMANITIES | National Endowment for the Humanities | Executive Assistant Staff Assistant | NH190002 NH190001 | 03/11/2019 10/12/2018
NATIONAL LABOR RELATIONS BOARD | Office of the Board Members | Public Affairs Officer (Director Congressional and Public Affairs Officer) | NL190010 | 08/17/2018
|  | Public Affairs Officer (Director Congressional and Public Affairs Officer) | NL180010 | 09/05/2018
NATIONAL TRANSPORTATION SAFETY BOARD | Office of Board Members | Confidential Assistant (2) | TB180003 TB180006 | 09/10/2018 10/16/2018
|  | Special Assistant (2) | TB190001 TB180004 | 02/12/2019 09/10/2018
OFFICE OF MANAGEMENT AND BUDGET | Office of Communications | Press Assistant Press Secretary (3) | BO190026 BO190011 BO190032 | 06/13/2019 03/22/2019 06/19/2019
|  |  | BO190031 | 06/27/2019
| Office of the General Counsel | Deputy for Oversight | BO190005 | 01/15/2019
|  | Associate General Counsel | BO190028 | 06/27/2019
| Office of General Government Programs | Confidential Assistant (2) | BO190024 BO180038 | 05/30/2019 09/13/2018
| Office of Health Division | Confidential Assistant | BO190014 | 04/25/2019
| Office of Legislative Affairs | Deputy for Legislative Affairs (Appropriations) | BO190025 | 06/13/2019
|  | Deputy for Legislative Affairs (Senate) | BO190002 | 11/28/2018
| Office of Natural Resource Programs | Confidential Assistant | BO190004 | 12/17/2018
| Office of E-Government and Information Technology | Confidential Assistant | BO180033 | 07/09/2018
| Office of Information and Regulatory Affairs | Confidential Assistant | BO180034 | 08/09/2018
| Office of the Director | Confidential Assistant | BO180036 | 08/09/2018
|  | Deputy Chief of Staff | BO190021 | 05/10/2019
|  | Deputy Chief of Staff and Associate Director for Intergovernmental Affairs | BO180037 | 08/23/2018
|  | Special Assistant (2) | BO190010 BO180035 | 03/22/2019 08/22/2018
OFFICE OF NATIONAL DRUG CONTROL POLICY | Office of Legislative Affairs | Legislative Analyst | QQ190008 | 03/14/2019
| Office of Public Affairs | Public Affairs Specialist (Speechwriter) | QQ190002 | 10/22/2018
|  | Public Affairs Specialist (Press Secretary) | QQ190001 | 10/25/2018
| Office of the Director | Policy Assistant | QQ180007 | 08/07/2018
OFFICE OF PERSONNEL MANAGEMENT | Office of the Congressional, Legislative, and Intergovernmental Affairs | Congressional Relations Officer Legislative Analyst (3) | PM190011 PM190016 PM190025 | 04/04/2019 04/04/2019 04/17/2019
|  |  | PM190040 | 06/30/2019
| Office of Communications | Assistant Director of Communications for Policy and Operations | PM190022 | 03/27/2019
|  | Deputy Director, Office of Communications | PM180051 | 08/17/2018
|  | Press Officer | PM180063 | 08/28/2018
|  | Special Assistant for Advance | PM180053 | 07/19/2018
|  | Speech Writer (2) | PM180061 PM180060 | 08/17/2018 09/26/2018
| Office of the Director | Confidential Assistant (3) | PM190036 PM180046 | 05/30/2019 07/31/2018
|  |  | PM180052 | 08/30/2018
|  | Special Assistant (2) | PM180041 PM190005 | 07/17/2018 11/19/2018
|  | Strategic Analyst | PM180049 | 08/09/2018
|  | White House Liaison | PM190039 | 03/28/2019
| Office of the General Counsel | Attorney-Advisor (General) | PM190037 | 06/20/2019
|  | Assistant General Counsel | PM180047 | 07/23/2018
| President's Commission on White House Fellowships | Associate Director Confidential Assistant | PM190023 PM190038 | 04/23/2019 08/09/2018
|  | Deputy Director, President's Commission on White House Fellowships | PM190020 | 08/16/2018
OFFICE OF THE UNITED STATES TRADE REPRESENTATIVE | Office of Congressional Affairs | Director of Congressional Affairs | TN190002 | 02/22/2019
| Office of the Intergovernmental Affairs and Public Liaison | Deputy Assistant for Intergovernmental Affairs and Public Liaison | TN190003 | 04/05/2019
| Office of the Ambassador | Executive Secretary and Policy Coordinator | TN180002 | 08/07/2018
PRESIDENT'S COMMISSION ON WHITE HOUSE FELLOWSHIPS (TERM 3—2019) | President's Commission on White House Fellowships | Principal Deputy Director Deputy Director, President's Commission on White House Fellowships | WH180005 WH180006 | 08/16/2018 08/16/2018
SECURITIES AND EXCHANGE COMMISSION | Office of Public Affairs | Deputy Director, Office of Public Affairs | SE190007 | 06/24/2019
| Office of the Chairman | Confidential Assistant (2) | SE190002 SE190005 | 01/28/2019 06/13/2019
|  | Senior Policy Adviser, Regulatory Reporting | SE190001 | 12/11/2018
|  | Writer-Editor | SE190004 | 04/16/2019
SMALL BUSINESS ADMINISTRATION | Office of Administration | Assistant | SB190001 | 10/22/2018
| Office of Capital Access | Special Assistant | SB190025 | 06/26/2019
|  | Special Advisor | SB180031 | 07/11/2018
| Office of Communications and Public Liaison | Deputy Associate Administrator Deputy Press Secretary | SB180033 SB190013 | 07/03/2018 05/02/2019
|  | Digital Director | SB190009 | 02/13/2019
|  | Director of Strategic Communications | SB190002 | 10/22/2018
| Office of Congressional and Legislative Affairs | Deputy Assistant Administrator Senior Advisor | SB180043 SB180036 | 08/07/2018 08/23/2018
|  | Legislative Assistant | SB180044 | 08/23/2018
| Office of Entrepreneurial Development | Special Advisor for Entrepreneurial Development | SB180045 | 08/29/2018
| Office of Faith-Based and Community Initiatives | Director of Faith Based and Community Initiatives | SB180047 | 10/04/2018
| Office of Field Operations | Regional Administrator, Region VI | SB180046 | 10/29/2018
| Office of Investment and Innovation | Senior Advisor | SB180037 | 08/23/2018
| Office of Native American Affairs | Assistant Administrator for Native American Affairs | SB180042 | 08/30/2018
| Office of the Administrator | Director of Scheduling | SB190006 | 02/06/2019
|  | Scheduler | SB180041 | 08/09/2018
|  | White House Liaison | SB180038 | 09/26/2018
DEPARTMENT OF STATE | Bureau of African Affairs | Special Assistant | DS190003 | 10/29/2018
| Bureau of Arms Control, Verification, and Compliance | Senior Advisor | DS180060 | 07/19/2018
| Bureau of Consular Affairs | Senior Advisor | DS190043 | 03/25/2019
| Bureau of Economic and Business Affairs | Senior Advisor | DS190025 | 02/06/2019
|  | Special Assistant (2) | DS190039 DS180056 | 02/27/2019 07/06/2018
|  | Special Representative | DS190099 | 05/20/2019
| Bureau of Education and Cultural Affairs | Special Advisor Deputy Assistant Secretary | DS190030 DS180073 | 02/04/2019 08/16/2018
|  | Special Assistant | DS180071 | 08/17/2018
|  | Communications Director | DS190007 | 10/29/2018
| Bureau of Energy Resources | Senior Advisor | DS190046 | 03/25/2019
| Bureau of European and Eurasian Affairs | Special Assistant | DS180067 | 08/02/2018
| Bureau of International Security and Nonproliferation | Senior Advisor | DS190004 | 03/26/2019
| Bureau of Legislative Affairs | Deputy Assistant Secretary | DS190022 | 01/29/2019
|  | Deputy Assistant Secretary for House Affairs | DS190049 | 04/10/2019
|  | Legislative Management Officer | DS190100 | 05/22/2019
|  | Special Assistant (3) | DS180064 DS180070 | 08/08/2018 08/08/2018
|  |  | DS190009 | 11/21/2018
| Bureau of Near Eastern Affairs | Senior Advisor | DS190102 | 05/23/2019
| Bureau of Overseas Buildings Operations | Senior Advisor | DS190071 | 04/11/2019
| Bureau of Political and Military Affairs | Special Assistant | DS180065 | 08/02/2018
| Bureau of Public Affairs | Press Secretary | DS190033 | 02/13/2019
|  | Senior Advisor (5) | DS190016 DS190060 | 02/14/2019 03/28/2019
|  |  | DS190026 | 04/30/2019
|  |  | DS190090 | 05/06/2019
|  |  | DS190017 | 05/30/2019
| Bureau of Western Hemisphere Affairs | Deputy Assistant Secretary Senior Advisor (2) | DS190021 DS190023 DS180053 | 01/29/2019 01/29/2019 07/02/2018
| Office of Policy Planning | Special Assistant (4) | DS190051 DS190045 | 03/13/2019 04/09/2019
|  |  | DS190048 | 04/12/2019
|  |  | DS190056 | 04/17/2019
|  | Senior Advisor (2) | DS190047 DS180062 | 04/29/2019 07/13/2018
|  | Writer-Editor (Speechwriter)(2) | DS180072 DS190001 | 08/09/2018 10/22/2018
|  | Staff Assistant | DS190015 | 12/17/2018
| Office of the Chief of Protocol | Assistant Chief of Protocol (Visits) | DS190082 | 05/02/2019
|  | Protocol Officer (2) | DS190028 DS190062 | 02/11/2019 04/12/2019
|  | Protocol Officer (Gifts)(2) | DS190110 DS180090 | 06/25/2019 09/27/2018
|  | Senior Protocol Officer (2) | DS190088 | 05/06/2019
|  |  | DS180088 | 09/26/2018
| Office of the Counselor | Senior Advisor | DS180063 | 08/02/2018
|  | Special Assistant | DS180076 | 08/23/2018
|  | Staff Assistant (3) | DS190092 DS180074 | 05/20/2019 08/23/2018
|  |  | DS190010 | 11/26/2018
| Office of the Legal Adviser | Senior Advisor | DS190101 | 05/23/2019
| Office of the Secretary | Deputy Special Envoy and Combat Anti-Semitism | DS190083 | 05/07/2019
|  | Senior Advisor | DS190038 | 03/15/2019
|  | Special Advisor | DS190040 | 03/25/2019
|  | Special Assistant | DS190055 | 03/25/2019
|  | Staff Assistant | DS180086 | 09/21/2018
|  | Staff Assistant (Scheduler) | DS190005 | 10/29/2018
|  | Writer-Editor (Chief Speechwriter) | DS180087 | 09/26/2018
| Office of the United States Global Aids Coordinator | Senior Advisor for Strategy | DS190098 | 05/17/2019
| Office of the Under Secretary for Arms Control and International Security Affairs | Senior Advisor Special Assistant | DS180079 DS180085 | 08/28/2018 09/26/2018
| Office of the Under Secretary for Civilian Security, Democracy, and Human Rights | Senior Advisor Special Assistant | DS190020 DS180055 | 03/25/2019 07/06/2018
| Office of the Under Secretary for Economic Growth, Energy, and the Environment | Senior Advisor | DS190065 | 06/05/2019
| Office of the Under Secretary for Management | Deputy White House Liaison (2) | DS190089 DS180081 | 04/25/2019 08/30/2018
|  | Staff Assistant (2) | DS190084 DS180075 | 05/02/2019 08/23/2018
TRADE AND DEVELOPMENT AGENCY | Office of the Director | Senior Advisor for Communications | TD190002 | 04/12/2019
DEPARTMENT OF TRANSPORTATION | Office of the Administrator | Director of Communications (3) | DT190061 DT190057 DT190003 | 03/26/2019 04/12/2019 10/12/2018
|  | Director of Governmental Affairs (2) | DT190062 DT190090 | 03/25/2019 06/18/2019
|  | Director of Governmental and Congressional Affairs | DT190044 | 03/15/2019
|  | Director of Public Affairs | DT190047 | 03/19/2019
|  | Governmental Affairs Officer | DT190099 | 06/28/2019
|  | Senior Advisor for Policy and Infrastructure | DT190036 | 03/19/2019
|  | Special Assistant for Governmental Affairs | DT190051 | 03/18/2019
|  | Special Assistant for Policy, Governmental and Public Affairs (2) | DT190093 DT190094 | 06/13/2019 06/14/2019
| Office of the Assistant Secretary for Budget and Programs | Special Assistant for Budget and Programs | DT190043 | 02/28/2019
| Office of the Assistant Secretary for Governmental Affairs | Governmental Affairs Officer (3) | DT190026 DT190046 | 03/19/2019 03/19/2019
|  |  | DT180089 | 09/27/2018
|  | Senior Advisor | DT180062 | 07/11/2018
|  | Senior Governmental Affairs Officer (4) | DT190021 DT190033 | 01/25/2019 02/01/2019
|  |  | DT180083 | 09/27/2018
|  |  | DT180082 | 12/11/2018
| Office of the Assistant Secretary for Research and Technology | Senior Advisor Senior Advisor for Economic Policy | DT190083 DT190072 | 05/23/2019 05/03/2019
|  | Senior Advisor for Research and Technology | DT190068 | 05/10/2019
|  | Special Assistant | DT180065 | 07/11/2018
|  | Special Assistant for Research and Technology | DT190105 | 06/28/2019
| Office of the Assistant Secretary for Transportation Policy | Special Assistant for Public Engagement | DT190037 | 02/27/2019
|  | Public Liaison Officer | DT190084 | 05/10/2019
|  | Director of Public Engagement | DT190005 | 12/13/2018
| Chief Information Officer | Special Assistant | DT190080 | 05/07/2019
| Office of Civil Rights | Senior Advisor | DT180064 | 07/11/2018
| Office of the Executive Secretariat | Special Assistant | DT190054 | 03/27/2019
|  | Deputy Director | DT180070 | 08/15/2018
| Immediate Office of the Administrator | Special Assistant | DT190048 | 03/19/2019
| Office of Government and Industry | Special Assistant for Governmental Affairs | DT190069 | 05/14/2019
| Office of the Deputy Secretary | Special Assistant for Scheduling and Advance | DT180078 | 08/23/2018
| Office of the Secretary | Senior Advisor (2) | DT190078 DT190007 | 05/06/2019 12/17/2018
| Office of Pipeline and Hazardous Materials Safety Administration | Director and Senior Advisor | DT190082 | 05/06/2019
| Office of Public Affairs | Deputy Press Secretary (3) | DT190073 DT190079 | 05/06/2019 05/06/2019
|  |  | DT180071 | 08/23/2018
|  | Digital Media Manager | DT190107 | 06/28/2019
|  | Media Affairs Coordinator | DT190081 | 04/25/2019
|  | Press Secretary | DT180057 | 07/03/2018
|  | Special Assistant for Media Strategy | DT180093 | 10/03/2018
|  | Speechwriter | DT180031 | 08/20/2018
| Office of the Secretary | Advisor | DT190064 | 03/29/2019
|  | Deputy Director for Scheduling and Advance | DT180074 | 08/02/2018
|  | Deputy Director for Scheduling and Operations | DT190045 | 03/04/2019
|  | Director for Scheduling and Advance | DT190101 | 06/28/2019
|  | Senior Advisor for Advance | DT190053 | 03/13/2019
|  | Special Assistant | DT190089 | 06/18/2019
|  | Special Assistant for Advance (2) | DT190024 DT190098 | 01/29/2019 06/28/2019
|  | Special Assistant for Scheduling | DT190067 | 04/12/2019
|  | Special Assistant for Scheduling and Advance | DT190025 | 02/27/2019
|  | Special Assistant for Strategic Initiatives | DT190009 | 12/13/2018
| Office of Small and Disadvantaged Business Utilization | Public Liaison Officer | DT190004 | 10/31/2018
| Office of the Under Secretary of Transportation for Policy | Senior Policy Advisor | DT190104 | 06/20/2019
DEPARTMENT OF THE TREASURY | Office of the Assistant Secretary (Economic Policy) | Special Assistant | DY190062 | 05/15/2019
| Office of the Assistant Secretary (Legislative Affairs) | Senior Advisor Special Assistant for Legislative Affairs (2) | DY190056 DY180096 DY180105 | 04/24/2019 07/31/2018 08/23/2018
| Office of the Assistant Secretary (Public Affairs) | Director, Public Affairs Public Affairs Coordinator | DY190082 DY190008 | 06/25/2019 11/09/2018
|  | Public Affairs Specialist | DY190077 | 06/13/2019
|  | Senior Advisor and Speechwriter | DY180128 | 10/03/2018
|  | Special Assistant | DY190073 | 06/06/2019
|  | Special Assistant for Public Affairs (2) | DY190045 DY190053 | 04/05/2019 04/23/2019
| Office of the Assistant Secretary for Terrorist Financing | Senior Counselor | DY190050 | 04/11/2019
| Secretary of the Treasury | Advance Representative | DY200009 | 04/25/2019
|  | Assistant Director for Scheduling and Advance | DY180117 | 09/06/2018
|  | Deputy Chief of Staff (4) | DY190047 DY190048 | 04/08/2019 04/08/2019
|  |  | DY190067 | 05/14/2019
|  |  | DY190068 | 05/14/2019
|  | Director, Scheduling and Advance | DY190085 | 06/25/2019
|  | Special Assistant (11) | DY190023 DY190041 | 01/29/2019 03/26/2019
|  |  | DY200008 | 04/25/2019
|  |  | DY190065 | 05/15/2019
|  |  | DY190066 | 05/15/2019
|  |  | DY190055 | 05/22/2019
|  |  | DY180111 | 08/30/2018
|  |  | DY180118 | 09/13/2018
|  |  | DY180123 | 09/21/2018
|  |  | DY180122 | 09/28/2018
|  |  | DY190010 | 11/09/2018
|  | Special Assistant and Media Affairs Coordinator | DY180094 | 07/11/2018
|  | White House Liaison | DY180121 | 09/21/2018
| Office of the Under Secretary for International Affairs | Special Assistant for International Affairs (2) | DY190072 DY180107 | 05/30/2019 08/28/2018
|  | Special Advisor | DY180126 | 09/27/2018
| Office of the Under Secretary for Terrorism and Financial Intelligence | Special Assistant | DY190061 | 05/14/2019
UNITED STATES INTERNATIONAL TRADE COMMISSION | Office of Commissioner Kearns | Staff Assistant | TC190002 | 05/03/2019
| Office of the Chairman | Confidential Assistant | TC190004 | 06/10/2019
DEPARTMENT OF VETERANS AFFAIRS | Board of Veterans' Appeals | Attorney Advisor (2) | DV190059 DV180070 | 05/06/2019 09/26/2018
| Office of Intergovernmental Affairs | Director State and Local Government Relations | DV180059 | 08/24/2018
| Office of the Assistant Secretary for Congressional and Legislative Affairs | Special Assistant | DV180069 | 10/22/2018
| Office of the Assistant Secretary for Public and Intergovernmental Affairs | Speechwriter Special Assistant/Deputy Press Secretary | DV190035 DV180065 | 03/05/2019 09/20/2018
| Office of the General Counsel | Counselor (Healthcare) | DV190032 | 02/01/2019
| Office of the Secretary and Deputy | Director, Office of Support and Mission Operations | DV190009 | 10/31/2018
|  | Senior Advisor for Strategic Communications | DV180050 | 08/24/2018
|  | Special Assistant | DV190014 | 12/11/2018
|  | White House Liaison (2) | DV190033 DV190013 | 02/14/2019 12/11/2018

Authority: 5 U.S.C. 3301 and 3302; E.O.10577, 3 CFR, 1954-1958 Comp., p. 218.

Office of Personnel Management.
Alexys Stanley,
Regulatory Affairs Analyst.

[FR Doc. 2020-04274 Filed 3-5-20; 8:45 am]

BILLING CODE 6325-39-P